DEPARTMENT OF COMMERCE

National Oceanic and Atmospheric Administration

50 CFR Part 660

[Docket No. 021209299-2299-01; I.D. 112502B]

RIN 0648-AQ19

Magnuson-Stevens Act Provisions; Fisheries Off West Coast States and in the Western Pacific; Pacific Coast Groundfish Fishery; Groundfish Fishery Management Measures

AGENCY: National Marine Fisheries Service (NMFS), National Oceanic and Atmospheric Administration (NOAA), Commerce.

ACTION: Emergency rule; groundfish fishery management measures for January through February 2003; request for comments.

SUMMARY: NMFS announces the January through February 2003 management measures for groundfish taken in the U.S. exclusive economic zone (EEZ) and state waters off the coasts of Washington, Oregon, and California. Management measures for January through February 2003 are intended to prevent overfishing; rebuild overfished species; minimize incidental catch and discard of overfished and depleted stocks; provide equitable harvest opportunity for both recreational and commercial sectors; and, within the commercial fisheries, allow achievement of harvest guidelines and limited entry and open access allocations to the extent practicable.

DATES: Effective January 1, 2003, through February 28, 2003. Comments must be received no later than 5 p.m, local time (l.t.) on February 6, 2003.

ADDRESSES: Send comments to D. Robert Lohn, Administrator, Northwest Region (Regional Administrator), NMFS, 7600 Sand Point Way N.E., Bldg. 1, Seattle, WA 98115-0070, or fax to 206-526-6736; or Rodney McInnis, Acting Administrator, Southwest Region, NMFS, 501 West Ocean Blvd., Suite 4200, Long Beach, CA 90802-4213, or fax to 562-980-4047. Comments will not be accepted if submitted via e-mail or Internet. Information relevant to this rule, which includes environmental assessment/regulatory impact review/initial regulatory flexibility analysis (EA/RIR), is available for public review during business hours at the office the Pacific Fishery Management Council (Council), at 7700 NE Ambassador Place, Portland, OR 97220, phone: 503-820-2280. Additional reports referred to in this document may also be obtained from the Council.

FOR FURTHER INFORMATION CONTACT: Yvonne deReynier or Becky Renko (Northwest Region, NMFS), phone: 206-526-6140; fax: 206-526-6736 and; e-mail: yvonne.dereynier@noaa.gov, becky.renko@noaa.gov or Svein Fougner (Southwest Region, NMFS) phone: 562-980-4000; fax: 562-980-4047 and; e-mail: svein.fougner@noaa.gov.

SUPPLEMENTARY INFORMATION:

Electronic Access

This emergency rule also is accessible via the Internet at the Office of the Federal Register′s website at http://www.access.gpo.gov/su_docs/aces/aces140.html. Background information and documents are available at the NMFS Northwest Region website at http://www.nwr.noaa.gov/1sustfsh/gdfsh01.htm and at the Council′s website at http://www.pcouncil.org.

Background

The Pacific Coast groundfish fishery management plan (FMP) requires that fishery specifications for groundfish be annually evaluated, and revised as necessary, that optimum yields (OYs) be specified for species or species groups in need of particular protection, and that management measures designed to achieve the OYs be published in the Federal Register and made effective by January 1, the beginning of the fishing year. The Magnuson-Stevens Fishery Conservation and Management Act (Magnuson-Stevens Act) and the FMP require that NMFS implement actions to prevent overfishing and to rebuild overfished stocks.

Throughout 2002, the Council has been developing revisions to its specifications and management measures process, through proposed Amendment 17 to the FMP. Among other procedural changes, Amendment 17 would revise the NMFS publication process for the specifications and management measures. Historically, the Council has developed annual specifications and management measures in a public two-meeting process (formerly at its September and November meetings) followed by a NMFS final action published in the Federal Register and made available for public comment and correction after the effective date of the action. Each year, specifications and management measures were effective until the specifications and management measures for the following year are published and effective. In 2001, the agency was challenged on this process in Natural Resources Defense Council, Inc. v.Evans, 168 F.Supp. 2d 1149 (N.D.Cal., 2001) and the Court ordered NMFS to provide prior public notice and allow public comment on the annual specifications.

Amendment 17 was recently adopted by the Council, but has not yet been submitted for NMFS for approval. NMFS must still comply with the Court′s Order for a public notice and comment period on the 2003 specifications and management measures. The Council had its initial meeting regarding these measures in June, and finalized its 2003 specifications and management measures recommendations at its September 9-13, 2002, meeting in Portland, OR. The Council could not act earlier in the year because the new science upon which the specifications and management measures were based was not ready until June. For 2003, the Council has recommended implementing depth-based management measures, with large closed areas intended to prevent vessels from operating in waters where overfished species are commonly found. NMFS and the Council felt that these management changes were significant enough to warrant analysis via an environmental impact statement (EIS). An EIS is a National Environmental Policy Act (NEPA) analysis document that requires a series of public review and comment periods at different document drafting stages. Given the complexity of the annual specifications and management measures package and the need for EIS-related public review periods, NMFS did not have enough time to publish a proposed rule on the Council's recommendations, receive public comments, and implement a final rule by January 1, 2003. Thus, NMFS is publishing this emergency rule under the Magnuson-Stevens Act emergency authority at section 305(c), which finalizes and makes effective the groundfish management measures for January 1 through February 28, 2003.

Absent a final rule by January 1, 2003, management measures for January and February 2003 would revert to those that were in place for January-February 2002. There are several species for which reverting to a management regime without depth-based closures at the beginning of the year could result in either exceeding the annual commercial OYs or very early attainment of OYs during the year. While these circumstances could jeopardize manager's ability to keep landings within rebuilding targets for some species, they could also lead to significant foregone revenue from other target species whose fisheries might also have to be closed prematurely.

NMFS implemented an emergency rule on September 10, 2002 (67 FR 57973, September 13, 2002), that opened trawling north of 40°10′ N. lat. inshore of 100 fm (183 m) and offshore of 250 fm (457 m), while leaving a large area closed to protect overfished species. Without these depth-based management measures, the northern trawl fishery would have closed entirely for September-December 2002 in order to protect darkblotched rockfish, an overfished species. NMFS expects that failing to implement depth-based management measures for January-February 2003 could similarly jeopardize fisheries participation later in the fishing year.

Specifications and management measures proposed for March-December 2003 in the Proposed Rules section of this issue of the Federal Register combined with this emergency rule are intended to protect overfished groundfish species while allowing harvesters some access to healthy groundfish stocks. Specifications and management measures proposed for 2003 in the Proposed Rule section of this issue of the Federal Register are designed to rebuild overfished stocks through constraining direct and incidental mortality and areas of fishing operation to prevent overfishing, and to achieve as much of the OYs as practicable for healthier groundfish stocks managed under the FMP. That proposed rule describes the rationale for the 2003 groundfish management measures, which include trip, bag and size limits, time/area closures, and gear-and area-specific regulations, including the management measures implemented in this emergency rule.

The Council adopted Amendment 17 during its October 28 - November 1, 2002, meeting in Foster City, CA. With that schedule, NMFS expects to review Amendment 17 for final implementation in early 2003, which will formalize a rulemaking process that will allow adequate time for both the Council′s recommendations development and NEPA process and NMFS notice and comment process on specifications and management measure packages. These anticipated process changes should reduce the need for future management measure implementation via emergency rule.

IV. NMFS Actions

For the reasons stated above, the Assistant Administrator for Fisheries, NOAA (Assistant Administrator or AA), concurs with the Council′s recommendations and announces the following management actions for January 1 through February 28, 2003.

A. General Definitions and Provisions

The following definitions and provisions apply to the 2003 management measures, unless otherwise specified in a subsequent Federal Register document:

(1) Trip limits. Trip limits are used in the commercial fishery to specify the amount of fish that may legally be taken and retained, possessed, or landed, per vessel, per fishing trip, or cumulatively per unit of time, or the number of landings that may be made from a vessel in a given period of time, as follows:

(a) A per-trip limit is the total allowable amount of a groundfish species or species group, by weight, or by percentage of weight of legal fish on board, that may be taken and retained, possessed, or landed per vessel from a single fishing trip.

(b) A daily trip limit is the maximum amount that may be taken and retained, possessed, or landed per vessel in 24 consecutive hours, starting at 0001 hours l.t. Only one landing of groundfish may be made in that 24-hour period. Daily trip limits may not be accumulated during multiple day trips.

(c) A weekly trip limit is the maximum amount that may be taken and retained, possessed, or landed per vessel in 7 consecutive days, starting at 0001 hours l.t. on Sunday and ending at 2400 hours l.t. on Saturday. Weekly trip limits may not be accumulated during multiple week trips. If a calendar week includes days within two different months, a vessel is not entitled to two separate weekly limits during that week.

(d) A cumulative trip limit is the maximum amount that may be taken and retained, possessed, or landed per vessel in a specified period of time without a limit on the number of landings or trips, unless otherwise specified. The cumulative trip limit periods for limited entry and open access fisheries, which start at 0001 hours l.t. and end at 2400 hours l.t., are as follows, unless otherwise specified:

(i) The 2-month periods are: January 1-February 28, March 1-April 30, May 1-June 30, July 1-August 31, September 1-October 31, and, November 1-December 31.

(ii) One month means the first day through the last day of the calendar month.

(iii) One week means 7 consecutive days, Sunday through Saturday.

(2) Fishing ahead. Unless the fishery is closed, a vessel that has landed its cumulative or daily limit may continue to fish on the limit for the next legal period, so long as no fish (including, but not limited to, groundfish with no trip limits, shrimp, prawns, or other nongroundfish species or shellfish) are landed (offloaded) until the next legal period. As stated at 50 CFR 660.302 (in the definition of “Landing”), once the offloading of any species begins, all fish aboard the vessel are counted as part of the landing. Fishing ahead is not allowed during or before a closed period (see paragraph A.(7)). See paragraph A.(9) for information on inseason changes to limits.

(3) Weights. All weights are round weights or round-weight equivalents unless otherwise specified.

(4) Percentages. Percentages are based on round weights, and, unless otherwise specified, apply only to legal fish on board.

(5) Legal fish. “Legal fish” means fish legally taken and retained, possessed, or landed in accordance with the provisions of 50 CFR part 660, the Magnuson-Stevens Act, any document issued under part 660, and any other regulation promulgated or permit issued under the Magnuson-Stevens Act.

(6) Size limits and length measurement. Unless otherwise specified, size limits in the commercial and recreational groundfish fisheries apply to the “total length,” which is the longest measurement of the fish without mutilation of the fish or the use of force to extend the length of the fish. No fish with a size limit may be retained if it is in such condition that its length has been extended or cannot be determined by these methods. For conversions not listed here, contact the state where the fish will be landed.

(a) Whole fish. For a whole fish, total length is measured from the tip of the snout (mouth closed) to the tip of the tail in a natural, relaxed position.

(b) “Headed” fish. For a fish with the head removed (“headed”), the length is measured from the origin of the first dorsal fin (where the front dorsal fin meets the dorsal surface of the body closest to the head) to the tip of the upper lobe of the tail; the dorsal fin and tail must be left intact.

(c) Filets. A filet is the flesh from one side of a fish extending from the head to the tail, which has been removed from the body (head, tail, and backbone) in a single continuous piece. Filet lengths may be subject to size limits for some groundfish taken in the recreational fishery off California (see paragraph D.(1)). A filet is measured along the length of the longest part of the filet in a relaxed position; stretching or otherwise manipulating the filet to increase its length is not permitted.

(d) Sablefish weight limit conversions. The following conversions apply to both the limited entry and open access fisheries when trip limits are effective for those fisheries. For headed and gutted (eviscerated) sablefish:

(i) The minimum size for headed sablefish, which corresponds to 20 inches (51 cm) tl for whole fish, is 14 inches (36 cm).

(ii) The conversion factor established by the state where the fish is or will be landed will be used to convert the processed weight to round weight for purposes of applying the trip limit. (The conversion factor currently is 1.6 in Washington, Oregon, and California. However, the state conversion factors may differ; fishers should contact fishery enforcement officials in the State where the fish will be landed to determine that State′s official conversion factor.)

(e) Lingcod size and weight conversions. The following conversions apply in both limited entry and open access fisheries.

(i) Size conversion. For lingcod with the head removed, the minimum size limit is 19.5 inches (49.5 cm), which corresponds to 24 inches (61 cm) total length for whole fish.

(ii) Weight conversion. The conversion factor established by the state where the fish is or will be landed will be used to convert the processed weight to round weight for purposes of applying the trip limit. (The states′ conversion factors may differ, and fishers should contact fishery enforcement officials in the state where the fish will be landed to determine that state′s official conversion factor.) If a state does not have a conversion factor for headed and gutted lingcod, or lingcod that is only gutted; the following conversion factors will be used. To determine the round weight, multiply the processed weight times the conversion factor.

(A) Headed and gutted. The conversion factor for headed and gutted lingcod is 1.5.

(B) Gutted, with the head on. The conversion factor for lingcod that has only been gutted is 1.1.

(7) Closure. “Closure,” when referring to closure of a fishery, means that taking and retaining, possessing, or landing the particular species or species group is prohibited. (See 50 CFR 660.302.) Unless otherwise announced in the Federal Register, offloading must begin before the time the fishery closes. The provisions at paragraph A.(2) for fishing ahead do not apply during a closed period. It is unlawful to transit through a closed area with the prohibited species on board, no matter where that species was caught, except as provided for in the CCA at A.(19).

(8) Fishery management area. The fishery management area for these species is the EEZ off the coasts of Washington, Oregon, and California between 3 and 200 nm offshore, bounded on the north by the Provisional International Boundary between the United States and Canada, and bounded on the south by the International Boundary between the United States and Mexico. All groundfish possessed between 0-200 nm offshore or landed in Washington, Oregon, or California are presumed to have been taken and retained from the EEZ, unless otherwise demonstrated by the person in possession of those fish.

(9) Routine management measures. Most trip, bag, and size limits, and area closures in the groundfish fishery have been designated “routine,” which means they may be changed rapidly after a single Council meeting. (See 50 CFR 660.323(b)). Council meetings in 2002 will be held in the months of March, April, June, September, and November. Inseason changes to routine management measures are announced in the Federal Register. Information concerning changes to routine management measures is available from the NMFS Northwest and Southwest Regional Offices (see ADDRESSES). Changes to trip limits are effective at the times stated in the Federal Register. Once a change is effective, it is illegal to take and retain, possess, or land more fish than allowed under the new trip limit. This means that, unless otherwise announced in the Federal Register, offloading must begin before the time a fishery closes or a more restrictive trip limit takes effect.

(10) Limited entry limits. It is unlawful for any person to take and retain, possess, or land groundfish in excess of the landing limit for the open access fishery without having a valid limited entry permit for the vessel affixed with a gear endorsement for the gear used to catch the fish (50 CFR 660.306(p)).

(11) Operating in both limited entry and open access fisheries. The open access trip limit applies to any fishing conducted with open access gear, even if the vessel has a valid limited entry permit with an endorsement for another type of gear. A vessel that operates in both the open access and limited entry fisheries is not entitled to two separate trip limits for the same species. If a vessel has a limited entry permit and uses open access gear, but the open access limit is smaller than the limited entry limit, the open access limit cannot be exceeded and counts toward the limited entry limit. If a vessel has a limited entry permit and uses open access gear, but the open access limit is larger than the limited entry limit, the smaller limited entry limit applies, even if taken entirely with open access gear.

(12) Operating in areas with different trip limits. Trip limits for a species or a species group may differ in different geographic areas along the coast. The following “crossover” provisions apply to vessels operating in different geographical areas that have different cumulative or “per trip” trip limits for the same species or species group. Such crossover provisions do not apply to species that are subject only to daily trip limits, or to the trip limits for black rockfish off Washington (see 50 CFR 660.323(a)(1)). In 2003, the cumulative trip limit periods for the limited entry and open access fisheries are specified in paragraph A(1)(d), but may be changed during the year if announced in the Federal Register.

(a) Going from a more restrictive to a more liberal area. If a vessel takes and retains any groundfish species or species group of groundfish in an area where a more restrictive trip limit applies before fishing in an area where a more liberal trip limit (or no trip limit) applies, then that vessel is subject to the more restrictive trip limit for the entire period to which that trip limit applies, no matter where the fish are taken and retained, possessed, or landed.

(b) Going from a more liberal to a more restrictive area. If a vessel takes and retains a groundfish species or species group in an area where a higher trip limit or no trip limit applies, and takes and retains, possesses or lands the same species or species group in an area where a more restrictive trip limit applies, that vessel is subject to the more restrictive trip limit for the entire period to which that trip limit applies, no matter where the fish are taken and retained, possessed, or landed.

(c) Operating in two different areas where a species or species group is managed with different types of trip limits. During the fishing year, NMFS may implement management measures for a species or species group that set different types of trip limits (for example, per trip limits versus cumulative trip limits) for different areas. If a vessel fishes for a species or species group that is managed with different types of trip limits in two different areas within the same cumulative limit period, then that vessel is subject to the most restrictive overall cumulative limit for that species, regardless of where fishing occurs.

(d) Minor rockfish. Several rockfish species are designated with species-specific limits on one side of the 40°10′ N. lat. management line, and are included as part of a minor rockfish complex on the other side of the line.

(i) If a vessel takes and retains minor slope rockfish north of 38° N. lat., that vessel is also permitted to take and retain, possess or land splitnose rockfish up to its cumulative limit south of 38° N. lat., even if splitnose rockfish were a part of the landings from minor slope rockfish taken and retained north of 38° N. lat. [Note: A vessel that takes and retains minor slope rockfish on both sides of the management line in a single cumulative limit period is subject to the more restrictive cumulative limit for minor slope rockfish during that period.]

(ii) If a vessel takes and retains minor slope rockfish south of 38° N. lat., that vessel is also permitted to take and retain, possess or land Pacific ocean perch (POP) up to its cumulative limit north of 38° N. lat., even if POP were a part of the landings from minor slope rockfish taken and retained south of 38° N. lat. [Note: A vessel that takes and retains minor slope rockfish on both sides of the management line in a single cumulative limit period is subject to the more restrictive cumulative limit for minor slope rockfish during that period.]

(iii) If a vessel takes and retains minor shelf rockfish south of 40°10′ N. lat., that vessel is also permitted to take and retain, possess, or land yellowtail rockfish up to its cumulative limits north of 40°10′ N. lat., even if yellowtail rockfish is part of the landings from minor shelf rockfish taken and retained south of 40°10′ N. lat. Widow rockfish is included in overall shelf rockfish limits for all gear groups. [Note: A vessel that takes and retains minor shelf rockfish on both sides of the management line in a single cumulative limit period is subject to the more restrictive cumulative limit for minor shelf rockfish during that period.]

(e) “DTS complex.” For 2003, there are differential trip limits for the “DTS complex” (Dover sole, shortspine thornyhead, longspine thornyhead, sablefish) north and south of the management line at 40°10′ N. lat. Vessels operating in the limited entry trawl fishery are subject to the crossover provisions in this paragraph A.(12) when making landings that include any one of the four species in the “DTS complex.”

(f) Flatfish complex. For 2003, there are differential trip limits for the flatfish complex (butter, curlfin, English, flathead, petrale, rex, rock, and sand soles, Pacific sanddab, and starry flounder) north and south of the management line at 40°10′ N. lat. Vessels operating in the limited entry trawl fishery are subject to the crossover provisions in this paragraph A.(12) when making landings that include any one of the species in the flatfish complex.

(13) Sorting. It is unlawful for any person to “fail to sort, prior to the first weighing after offloading, those groundfish species or species groups for which there is a trip limit, size limit, quota, or commercial OY, if the vessel fished or landed in an area during a time when such trip limit, size limit, commercial optimum yield, or quota applied.” This provision applies to both the limited entry and open access fisheries (see 50 CFR 660.306(h).) The following species must be sorted in 2003:

(a) For vessels with a limited entry permit:

(i) Coastwide widow rockfish, canary rockfish, darkblotched rockfish, yelloweye rockfish, shortbelly rockfish, minor nearshore rockfish, minor shelf rockfish, minor slope rockfish, shortspine and longspine thornyhead, Dover sole, arrowtooth flounder, rex sole, petrale sole, arrowtooth flounder, other flatfish, lingcod, sablefish, and Pacific whiting [Note: Although both yelloweye and darkblotched rockfish are considered minor rockfish managed under the minor shelf and minor slope rockfish complexes, respectively, they have separate OYs and therefore must be sorted by species.]

(ii) North of 40°10′ N. lat.- POP, yellowtail rockfish, and, for fixed gear, black rockfish and blue rockfish;

(iii) South of 40°10′ N. lat.- minor shallow nearshore rockfish, minor deeper nearshore rockfish, chilipepper rockfish, bocaccio rockfish, splitnose rockfish, and Pacific sanddabs.

(b) For open access vessels (vessels without a limited entry

permit):

(i) Coastwide-widow rockfish, canary rockfish, darkblotched rockfish, yelloweye rockfish, minor nearshore rockfish, minor shelf rockfish, minor slope rockfish, Dover sole, arrowtooth flounder, petrale sole, rex sole, other flatfish, lingcod, sablefish, Pacific whiting, and Pacific sanddabs;

(ii) North of 40°10′ N. lat.- black rockfish, blue rockfish, POP, yellowtail rockfish;

(iii) South of 40°10′ N. lat.- minor shallow nearshore rockfish, minor deeper nearshore rockfish, chilipepper rockfish, bocaccio rockfish, splitnose rockfish;

(iv) South of Point Conception--thornyheads.

(14) Limited Entry Trawl Gear Restrictions. Limited entry trip limits may vary depending on the type of trawl gear that is on board a vessel during a fishing trip: large footrope, small footrope, or midwater trawl gear. No more than one type of trawl gear may be on board during any single fishing trip.

(a) Types of trawl gear—Large footrope, small footrope, and midwater or pelagic trawl gears are defined at 50 CFR 660.302 and 660.322(b).

(b) Cumulative trip limits and prohibitions by trawl gear type—(i) Large footrope trawl. If Table 3 does not provide a large footrope trawl cumulative or trip limit for a particular species or species group, it is unlawful to take and retain, possess or land that species or species group if large footrope gear is on board. It is unlawful for any vessel using large footrope gear to exceed large footrope gear limits for any species or to use large footrope gear to exceed small footrope gear or midwater trawl gear limits for any species. It is unlawful for any vessel using large footrope gear or that has large footrope trawl gear on board to fish for groundfish shoreward of the Rockfish Conservation Areas (RCAs) defined at paragraph (19) of this section. The presence of rollers or bobbins larger than 8 inches (20 cm) in diameter on board the vessel, even if not attached to a trawl, will be considered to mean a large footrope trawl is on board.

(ii) Small footrope or midwater trawl gear. Cumulative trip limits for canary rockfish, chilipepper rockfish, widow rockfish, yellowtail rockfish, bocaccio, minor shelf rockfish, minor nearshore rockfish, and lingcod, as indicated in Table 3 under NMFS Actions, are allowed only if small footrope gear or midwater trawl gear is used, and if that gear meets the specifications in paragraphs A.(14).

(iii) Midwater trawl gear. Higher yellowtail and widow rockfish cumulative trip limits are available for limited entry vessels using midwater trawl gear. Each landing that contains yellowtail or widow rockfish is attributed to the gear on board with the most restrictive trip limit for those species. Landings attributed to small footrope trawl must not exceed the small footrope limit, and landings attributed to midwater trawl must not exceed the midwater trawl limit. If a vessel has landings attributed to both types of trawls during a cumulative trip limit period, all landings are counted toward the most restrictive gear-specific cumulative limit.

(iv) More than one type of trawl gear on board; trawl gear and non-trawl gear on board. The cumulative trip limits in Table 3 of Section IV must not be exceeded. For the first time in 2003, it is prohibited to have more than one type of trawl gear on board. It is prohibited to have more than one type of limited entry trawl gear on board and it is prohibited to have both limited entry trawl gear and exempted trawl gear on board. It is also prohibited to have both trawl gear and non-trawl (limited entry or open access) gear on board at the same time.

(c) State landing receipts. Washington, Oregon, and California will require the type of trawl gear on board to be recorded on the State landing receipt(s) for each trip or on an attachment to the State landing receipt.

(d) Gear inspection. All trawl gear and trawl gear components, including unattached rollers or bobbins, must be readily accessible and made available for inspection at the request of an authorized officer. No trawl gear may be removed from the vessel prior to offloading. All footropes shall be uncovered and clearly visible except when in use for fishing.

(15) Platooning—limited entry trawl vessels. Limited entry trawl vessels are automatically in the “A” platoon, unless the “B” platoon is indicated on the limited entry permit. If a vessel is in the “A” platoon, its cumulative trip limit periods begin and end on the beginning and end of a calendar month as in the past. No more than one trawl permit may be registered to a vessel unless a permit is endorsed for both trawl and either longline or pot gear and is being stacked under § 660.335(c) for use in the limited entry fixed gear primary sablefish fishery. If a vessel is registered for use with more than one permit with a trawl endorsement through the fixed gear permit stacking program, then the vessel owner must designate one trawl-endorsed permit as his base trawl permit and may only fish in the platoon associated with that base trawl permit. If a limited entry trawl permit is authorized for the “B” platoon, then cumulative trip limit periods will begin on the 16th of the month (generally 2 weeks later than for the “A” platoon), unless otherwise specified.

(a) For a vessel in the “B” platoon, cumulative trip limit periods begin on the 16th of the month at 0001 hours, l.t., and end at 2400 hours, l.t., on the 15th of the month. Therefore, the management measures announced herein that are effective on January 1, 2003, for the “A” platoon will be effective on January 16, 2003, for the “B” platoon. The effective date of any inseason changes to the cumulative trip limits also will be delayed for 2 weeks for the “B” platoon, unless otherwise specified.

(b) A vessel authorized to operate in the “B” platoon may take and retain, but may not land, groundfish from January 1, 2003, through January 15, 2003.

(c) A vessel authorized to operate in the “B” platoon will have the same cumulative trip limits for the November 16, 2003, through December 31, 2003, period as a vessel operating in the “A” platoon has for the November 1, 2002, through December 31, 2002 period.

(16) Permit transfers. Limited entry permit transfers are to take effect no earlier than the first day of a major cumulative limit period following the day NMFS receives the transfer form and original permit (50 CFR 660.335(e)(3)). Those days in 2003 are January 1, March 1, May 1, July 1, September 1, and November 1, and are delayed by 15 days (starting on the 16th of a month) for the “B” platoon.

(17) Exempted fisheries. U.S. vessels operating under an exempted fishing permit (EFP) issued under 50 CFR part 600 are also subject to these restrictions, unless otherwise provided in the permit. EFPs may include the collecting of scientific samples of groundfish species that would otherwise be prohibited for retention.

(18) Application of requirements. Paragraphs B. and C. pertain to the commercial groundfish fishery, but not to Washington coastal tribal fisheries, which are described in Section V. The provisions in paragraphs B. and C. that are not covered under the headings “limited entry” or “open access” apply to all vessels in the commercial fishery that take and retain groundfish, unless otherwise stated. Paragraph D. pertains to the recreational fishery.

(19) Rockfish Conservation Areas. For 2003, the Council has introduced several RCAs and a Yelloweye Rockfish Conservation Area (YRCA) and has retained the Cowcod Conservation Area (CCAs) used in 2001 and 2002. Collectively, any geographically defined area where specific fishing activities are prohibited (closed) or otherwise restricted intended to protect a particular groundfish species or species group or intended to protect a complex of species is referred to as a Groundfish Conservation Area. The YRCA, the CCAs, and the larger depth-based RCAs are Groundfish Conservation Areas. Larger RCAs intended to protect a complex of species, such as overfished shelf rockfish species, have boundaries defined by a series of coordinates intended to approximate particular depth contours, such as 100 fm (183 m), 150 fm (274 m), 250 fm (457,) etc. Different gear types or fishing sectors may have RCAs with differing boundaries.

(a) Yelloweye Rockfish Conservation Area. Recreational fishing for groundfish is prohibited within the YRCA. It is unlawful for recreational fishing vessels to take, retain, possess, or land groundfish inside the YRCA. The YRCA is a C-shaped area off the northern Washington coast that is bound by straight lines connecting all of the following points in the order listed:

48°00′ N. lat.; 124°59′ W. long.;

48°00′ N. lat.; 125°18′ W. long.;

48°04′ N. lat.; 124°59′ W. long.;

48°04′ N. lat.; 125°18′ W. long.;

48°04′ N. lat.; 125°11′ W. long.;

48°04′ N. lat.; 125°18′ W. long.;

48°18′ N. lat.; 125°11′ W. long.;

48°18′ N. lat.; 125°18′ W. long.;

and connecting back to 48°00′ N. lat.; 124°59′ W. long.

(b) Cowcod Conservation Areas. The coordinates of the Cowcod Conservation Areas (CCAs) are defined at § 660.304(c). Recreational and commercial fishing for groundfish is prohibited within the CCAs, except that recreational and commercial fishing for rockfish and lingcod is permitted in waters inside 20 fathoms (36.9 m). It is unlawful to take and retain, possess, or land groundfish inside the CCAs, except for rockfish and lingcod taken in waters inside the 20-fathom (36.9 m) depth contour, when those waters are open to fishing. Commercial fishing vessels may transit through the Western CCA with their gear stowed and groundfish on board only in a corridor through the Western CCA bounded on the north by the latitude line at 33°00′30” N. lat., and bounded on the south by the latitude line at 32°59′30” N. lat.

(c) Limited entry trawl groundfish coastwide and open access exempted trawl south of 40°10′ N. lat. Conservation Area.

(i) The trawl RCA is closed to limited entry groundfish trawl fishing coastwide and to open access exempted trawl fishing (except for pink shrimp trawling) south of 40°10′ N. lat. Fishing with limited entry groundfish trawl gear is prohibited within the trawl RCA north of 40°10′ N. lat. and fishing with any trawl gear is prohibited within the trawl RCA south of 40°10′ N. lat., unless that vessel is trawling for pink shrimp. Coastwide, it is unlawful to take and retain, possess, or land groundfish taken with limited entry groundfish trawl gear in the trawl RCA. South of 40°10′ N. lat., it is unlawful to take and retain, possess, or land any species of fish taken with any type of trawl gear in the trawl RCA. Trawl vessels may transit through the trawl RCA, with or without groundfish on board, provided all groundfish trawl gear is stowed either: (1) below deck; or (2) if the gear cannot readily be moved, in a secured and covered manner, detached from all towing lines, so that it is rendered unusable for fishing; or (3) remaining on deck uncovered if the trawl doors are hung from their stanchions and the net is disconnected from the doors. These restrictions do not apply to vessels fishing with midwater trawl gear for Pacific whiting during the primary whiting season or taking and retaining yellowtail rockfish or widow rockfish in association with Pacific whiting during the primary whiting season caught with midwater trawl gear or to taking and retaining yellowtail or widow rockfish with midwater trawl gear when mid-water gear trip limits are authorized for those species (November-December 2003.) If a vessel fishes in an RCA, it may not participate in any fishing on that trip that is inconsistent with the restrictions that apply within the RCA. For example, if a vessel participates in the pink shrimp fishery within the RCA, the vessel cannot on the same trip participate in the DTS fishery outside of the RCA. Nothing in these Federal regulations supercede any State regulations that may prohibit trawling shoreward of the 3 nm State waters boundary line.

(ii) Between the U.S. border with Canada and 40°10′ N. lat., the trawl RCA is defined along an eastern, inshore boundary approximating 100 fm (183 m) in January through June and October through December, and approximating 75 fm (137 m) in July and August. Between 40°10′ N. lat. and 34°27′ N. lat., the trawl RCA is defined along an eastern, inshore boundary approximating 50 fm (91 m) in January and February and 60 fm (110 m) in March through December. Between 34°27′ N. lat. and the U.S. border with Mexico, along the mainland coast of California, the trawl RCA is defined along an eastern, inshore boundary approximating 100 fm (183 m) throughout the year. Between 34°27′ N. lat. and the U.S. border with Mexico, adjacent to the islands offshore of California, the trawl RCA is defined along an inshore boundary approximating 20 fm (37 m) throughout the year. Boundary coordinates are provided below at paragraph (e) of this section.

(iii) Between the U.S. border with Canada and 38° N. lat., the trawl RCA is defined along a western, offshore boundary approximating 250 fm (457 m) in March through October, and approximating 250 fm (457 m) with some modifications to provide open areas to allow winter petrale sole fishing in January, February, November, and December. Between 38° N. lat. and the U.S. border with Mexico, the trawl RCA is defined along a western, offshore boundary approximating 150 fm (274 m) throughout the year. Boundary coordinates are provided below at paragraph (e) of this section.

(d) Non-trawl (limited entry fixed gear and open access nontrawl gears) Groundfish Conservation Area.

(i) The non-trawl RCA is closed to non-trawl gear (limited entry or open access longline and pot or trap, open access hook-and-line, pot or trap, gillnet, set net, trammel net and spear) fishing for groundfish. Fishing with non-trawl gear is prohibited within the non-trawl gear RCA. It is unlawful to take and retain, possess, or land groundfish taken with non-trawl gear in the non-trawl gear RCA. Limited entry fixed gear and open access non-trawl gear vessels may transit through the non-trawl gear RCA, with or without groundfish on board. These restrictions do not apply to vessels fishing for species other than groundfish with non-trawl gear. If a vessel fishes in an RCA, it may not participate in any fishing on that trip that is inconsistent with the restrictions that apply within the RCA. For example, if a vessel participates in the salmon troll fishery within the RCA, the vessel cannot on the same trip participate in the sablefish fishery outside of the RCA.

(ii) Between the U.S. border with Canada and 46°16′ N. lat., the non-trawl gear RCA extends to the shoreline. Between 46°16′ N. lat. and 40°10′ N. lat., the non-trawl gear RCA is defined along an eastern, inshore boundary approximating 27 fm (49 m) throughout the year. Between 40°10′ N. lat. and the U.S. border with Mexico, the non-trawl gear RCA is defined along an eastern, inshore boundary approximating 20 fm (37 m) throughout the year, except as provided for between Point Fermin (33°41′ N. lat.; 118°18′ W. long.) and the Newport South Jetty (33°36′ N .lat.; 117° 51′ W. long.) Between a line drawn due south from Point Fermin, CA (33°41′ N. lat.; 118°18′ W. long.) and a line drawn due west from the Newport South Jetty (33°36′ N .lat.; 117° 51′ W. long.,) vessels fishing with hook-and-line and/or trap (or pot) gear may operate from shore to a boundary line approximating 50 fm (91 m) in the months of July and August. Boundary coordinates are provided below at paragraph (e) of this section.

(iii) Between the U.S. border with Canada and 40°10′ N. lat., the non-trawl gear RCA is defined along a western, offshore boundary approximating 100 fm (183 m) throughout the year. Between 40°10′ N. lat. and the U.S. border with Mexico, the trawl RCA is defined along a western, offshore boundary approximating 150 fm (274 m) throughout the year. Boundary coordinates are provided below at paragraph (e) of this section.

(e) RCA Boundary Coordinates. Coordinates for the specific boundaries that approximate the depth contours selected for both trawl and non-trawl gear RCAs are provided here.

(i) The 27-fm (49-m) depth contour used between 46°16′ N. lat. and 40°10′ N. lat. as an eastern boundary for the non-trawl RCA is defined by straight lines connecting all of the following points in the order stated:

(1) 46°16.00′ N. lat., 124°12.39′ W. long.;

(2) 46°14.85′ N. lat., 124°12.39′ W. long.;

(3) 46°3.95′ N. lat., 124°3.64′ W. long.;

(4) 45°43.14′ N. lat., 124°0.17′ W. long.;

(5) 45°23.33′ N. lat., 124°1.99′ W. long.;

(6) 45°9.54′ N. lat., 124°1.65′ W. long.;

(7) 44°39.99′ N. lat., 124°8.67′ W. long.;

(8) 44°20.86′ N. lat., 124°10.31′ W. long.;

(9) 43°37.11′ N. lat., 124°14.91′ W. long.;

(10) 43°27.54′ N. lat., 124°18.98′ W. long.;

(11) 43°20.68′ N. lat., 124°25.53′ W. long.;

(12) 43°15.08′ N. lat., 124°27.17′ W. long.;

(13) 43°6.89′ N. lat., 124°29.65′ W. long.;

(14) 43°1.02′ N. lat., 124°29.70′ W. long.;

(15) 42°52.67′ N. lat., 124°36.10′ W. long.;

(16) 42°45.96′ N. lat., 124°37.95′ W. long.;

(17) 42°45.80′ N. lat., 124°35.41′ W. long.;

(18) 42°38.46′ N. lat., 124°27.49′ W. long.;

(19) 42°35.29′ N. lat., 124°26.85′ W. long.;

(20) 42°31.49′ N. lat., 124°31.40′ W. long.;

(21) 42°29.06′ N. lat., 124°32.24′ W. long.;

(22) 42°14.26′ N. lat., 124°26.27′ W. long.;

(23) 42°4.86′ N. lat., 124°21.94′ W. long.;

(24) 42°0.10′ N. lat., 124°20.99′ W. long.;

(25) 42°0.00′ N. lat., 124°21.03′ W. long.;

(26) 41°56.33′ N. lat., 124°20.34′ W. long.;

(27) 41°50.93′ N. lat., 124°23.74′ W. long.;

(28) 41°41.83′ N. lat., 124°16.99′ W. long.;

(29) 41°35.48′ N. lat., 124°16.35′ W. long.;

(30) 41°23.51′ N. lat., 124°10.48′ W. long.;

(31) 41°4.62′ N. lat., 124°14.44′ W. long.;

(32) 40°54.28′ N. lat., 124°13.90′ W. long.;

(33) 40°40.37′ N. lat., 124°26.21′ W. long.;

(34) 40°34.03′ N. lat., 124°27.36′ W. long.;

(35) 40°28.88′ N. lat., 124°32.41′ W. long.;

(36) 40°24.82′ N. lat., 124°29.56′ W. long.;

(37) 40°22.64′ N. lat., 124°24.05′ W. long.;

(38) 40°18.67′ N. lat., 124°21.90′ W. long.;

(39) 40°14.23′ N. lat., 124°23.72′ W. long.; and

(40) 40°10.00′ N. lat., 124°17.22′ W. long.;

(ii) The 75-fm (137-m) depth contour used north of 40°10′ N. lat. as an eastern boundary for the trawl RCA in the months of July and August is defined by straight lines connecting all of the following points in the order stated:

(1) 48°14.58′ N. lat., 125°42.47′ W. long.;

(2) 48°20.26′ N. lat., 125°23.03′ W. long.;

(3) 48°23.00′ N. lat., 124°50.00′ W. long.;

(4) 48°17.10′ N. lat., 124°54.82′ W. long.;

(5) 48°05.10′ N. lat., 124°59.40′ W. long.;

(6) 48°04.98′ N. lat., 125°10.02′ W. long.;

(7) 47°54.00′ N. lat., 125°04.98′ W. long.;

(8) 47°44.52′ N. lat., 125°00.00′ W. long.;

(9) 47°42.00′ N. lat., 124°58.98′ W. long.;

(10) 47°35.52′ N. lat., 124°55.50′ W. long.;

(11) 47°22.02′ N. lat., 124°44.40′ W. long.;

(12) 47°16.98′ N. lat., 124°45.48′ W. long.;

(13) 47°10.98′ N. lat., 124°48.48′ W. long.;

(14) 47°04.98′ N. lat., 124°49.02′ W. long.;

(15) 46°57.98′ N. lat., 124°46.50′ W. long.;

(16) 46°54.00′ N. lat., 124°45.00′ W. long.;

(17) 46°48.48′ N. lat., 124°44.52′ W. long.;

(18) 46°40.02′ N. lat., 124°36.00′ W. long.;

(19) 46°34.09′ N. lat., 124°27.03′ W. long.;

(20) 46°24.64′ N. lat., 124°30.33′ W. long.;

(21) 46°19.98′ N. lat., 124°36.00′ W. long.;

(22) 46°18.14′ N. lat., 124°34.26′ W. long.;

(23) 46°18.72′ N. lat., 124°22.68′ W. long.;

(24) 46°14.64′ N. lat., 124°22.54′ W. long.;

(25) 46°11.08′ N. lat., 124°30.74′ W. long.;

(26) 46°4.28′ N. lat., 124°31.49′ W. long.;

(27) 45°55.97′ N. lat., 124°19.95′ W. long.;

(28) 45°44.97′ N. lat., 124°15.96′ W. long.;

(29) 45°43.14′ N. lat., 124°21.86′ W. long.;

(30) 45°34.44′ N. lat., 124°14.44′ W. long.;

(31) 45°15.49′ N. lat., 124°11.49′ W. long.;

(32) 44°57.31′ N. lat., 124°15.03′ W. long.;

(33) 44°43.90′ N. lat., 124°28.88′ W. long.;

(34) 44°28.64′ N. lat., 124°35.67′ W. long.;

(35) 44°25.31′ N. lat., 124°43.08′ W. long.;

(36) 44°17.15′ N. lat., 124°47.98′ W. long.;

(37) 44°13.67′ N. lat., 124°54.41′ W. long.;

(38) 43°56.85′ N. lat., 124°55.32′ W. long.;

(39) 43°57.50′ N. lat., 124°41.23′ W. long.;

(40) 44°1.79′ N. lat., 124°38.00′ W. long.;

(41) 44°2.16′ N. lat., 124°32.62′ W. long.;

(42) 43°58.15′ N. lat., 124°30.39′ W. long.;

(43) 43°53.25′ N. lat., 124°31.39′ W. long.;

(44) 43°35.56′ N. lat., 124°28.17′ W. long.;

(45) 43°21.84′ N. lat., 124°36.07′ W. long.;

(46) 43°19.73′ N. lat., 124°34.86′ W. long.;

(47) 43°9.38′ N. lat., 124°39.30′ W. long.;

(48) 43°7.11′ N. lat., 124°37.66′ W. long.;

(49) 42°56.27′ N. lat., 124°43.29′ W. long.;

(50) 42°45.00′ N. lat., 124°41.50′ W. long.;

(51) 42°39.72′ N. lat., 124°39.11′ W. long.;

(52) 42°32.88′ N. lat., 124°40.13′ W. long.;

(53) 42°32.30′ N. lat., 124°39.04′ W. long.;

(54) 42°26.96′ N. lat., 124°44.31′ W. long.;

(55) 42°24.11′ N. lat., 124°42.16′ W. long.;

(56) 42°21.10′ N. lat., 124°35.46′ W. long.;

(57) 42°14.72′ N. lat., 124°32.30′ W. long.;

(58) 42°9.24′ N. lat., 124°32.04′ W. long.;

(59) 42°1.89′ N. lat., 124°32.70′ W. long.;

(60) 42°0.03′ N. lat., 124°32.02′ W. long.;

(61) 42°0.00′ N. lat., 124°32.02′ W. long.;

(62) 41°46.18′ N. lat., 124°26.60′ W. long.;

(63) 41°29.22′ N. lat., 124°28.04′ W. long.;

(64) 41°9.62′ N. lat., 124°19.75′ W. long.;

(65) 40°50.71′ N. lat., 124°23.80′ W. long.;

(66) 40°43.35′ N. lat., 124°29.30′ W. long.;

(67) 40°40.24′ N. lat., 124°29.86′ W. long.;

(68) 40°37.50′ N. lat., 124°28.68′ W. long.;

(69) 40°34.42′ N. lat., 124°29.65′ W. long.;

(70) 40°34.74′ N. lat., 124°34.61′ W. long.;

(71) 40°31.70′ N. lat., 124°37.13′ W. long.;

(72) 40°25.03′ N. lat., 124°34.77′ W. long.;

(73) 40°23.58′ N. lat., 124°31.49′ W. long.;

(74) 40°23.64′ N. lat., 124°28.35′ W. long.;

(75) 40°22.53′ N. lat., 124°24.76′ W. long.;

(76) 40°21.46′ N. lat., 124°24.86′ W. long.;

(77) 40°21.74′ N. lat., 124°27.63′ W. long.;

(78) 40°19.76′ N. lat., 124°28.15′ W. long.;

(79) 40°18.00′ N. lat., 124°25.38′ W. long.;

(80) 40°18.54′ N. lat., 124°22.94′ W. long.;

(81) 40°15.55′ N. lat., 124°25.75′ W. long.;

(82) 40°16.06′ N. lat., 124°30.48′ W. long.;

(83) 40°15.75′ N. lat., 124°31.69′ W. long.; and

(84) 40°10.00′ N. lat., 124°21.28′ W. long.

(iii) The 100-fm (183-m) depth contour used north of 40°10′ N. lat. as an eastern boundary for the trawl RCA and as a western boundary for the non-trawl RCA is defined by straight lines connecting all of the following points in the order stated:

(1) 48°15.00′ N. lat., 125°41.00′ W. long.;

(2) 48°14.00′ N. lat., 125°36.00′ W. long.;

(3) 48°09.50′ N. lat., 125°40.50′ W. long.;

(4) 48°08.00′ N. lat., 125°38.00′ W. long.;

(5) 48°05.00′ N. lat., 125°37.25′ W. long.;

(6) 48°02.60′ N. lat., 125°34.70′ W. long.;

(7) 47°59.00′ N. lat., 125°34.00′ W. long.;

(8) 47°57.26′ N. lat., 125°29.82′ W. long.;

(9) 47°59.87′ N. lat., 125°25.81′ W. long.;

(10) 48°01.08′ N. lat., 125°24.53′ W. long.;

(11) 48°02.08′ N. lat., 125°22.98′ W. long.;

(12) 48°02.97′ N. lat., 125°22.89′ W. long.;

(13) 48°04.47′ N. lat., 125°21.75′ W. long.;

(14) 48°06.11′ N. lat., 125°19.33′ W. long.;

(15) 48°07.95′ N. lat., 125°18.55′ W. long.;

(16) 48°09.00′ N. lat., 125°18.00′ W. long.;

(17) 48°11.31′ N. lat., 125°17.55′ W. long.;

(18) 48°14.60′ N. lat., 125°13.46′ W. long.;

(19) 48°16.67′ N. lat., 125°14.34′ W. long.;

(20) 48°18.73′ N. lat., 125°14.41′ W. long.;

(21) 48°19.98′ N. lat., 125°13.24′ W. long.;

(22) 48°22.95′ N. lat., 125°10.79′ W. long.;

(23) 48°21.61′ N. lat., 125°02.54′ W. long.;

(24) 48°23.00′ N. lat., 124°49.34′ W. long.;

(25) 48°17.00′ N. lat., 124°56.50′ W. long.;

(26) 48°06.00′ N. lat., 125°00.00′ W. long.;

(27) 48°04.62′ N. lat., 125°01.73′ W. long.;

(28) 48°04.84′ N. lat., 125°04.03′ W. long.;

(29) 48°06.41′ N. lat., 125°06.51′ W. long.;

(30) 48°06.00′ N. lat., 125°08.00′ W. long.;

(31) 48°07.28′ N. lat., 125°11.14′ W. long.;

(32) 48°03.45′ N. lat., 125°16.66′ W. long.;

(33) 47°59.50′ N. lat., 125°18.88′ W. long.;

(34) 47°58.68′ N. lat., 125°16.19′ W. long.;

(35) 47°56.62′ N. lat., 125°13.50′ W. long.;

(36) 47°53.71′ N. lat., 125°11.96′ W. long.;

(37) 47°51.70′ N. lat., 125°09.38′ W. long.;

(38) 47°49.95′ N. lat., 125°06.07′ W. long.;

(39) 47°49.00′ N. lat., 125°03.00′ W. long.;

(40) 47°46.95′ N. lat., 125°04.00′ W. long.;

(41) 47°46.58′ N. lat., 125°03.15′ W. long.;

(42) 47°44.07′ N. lat., 125°04.28′ W. long.;

(43) 47°43.32′ N. lat., 125°04.41′ W. long.;

(44) 47°40.95′ N. lat., 125°04.14′ W. long.;

(45) 47°39.58′ N. lat., 125°04.97′ W. long.;

(46) 47°36.23′ N. lat., 125°02.77′ W. long.;

(47) 47°34.28′ N. lat., 124°58.66′ W. long.;

(48) 47°32.17′ N. lat., 124°57.77′ W. long.;

(49) 47°30.27′ N. lat., 124°56.16′ W. long.;

(50) 47°30.60′ N. lat., 124°54.80′ W. long.;

(51) 47°29.26′ N. lat., 124°52.21′ W. long.;

(52) 47°28.21′ N. lat., 124°50.65′ W. long.;

(53) 47°27.38′ N. lat., 124°49.34′ W. long.;

(54) 47°25.61′ N. lat., 124°48.26′ W. long.;

(55) 47°23.54′ N. lat., 124°46.42′ W. long.;

(56) 47°20.64′ N. lat., 124°45.91′ W. long.;

(57) 47°17.99′ N. lat., 124°45.59′ W. long.;

(58) 47°18.20′ N. lat., 124°49.12′ W. long.;

(59) 47°15.01′ N. lat., 124°51.09′ W. long.;

(60) 47°12.61′ N. lat., 124°54.89′ W. long.;

(61) 47°08.22′ N. lat., 124°56.53′ W. long.;

(62) 47°08.50′ N. lat., 124°54.95′ W. long.;

(63) 47°01.92′ N. lat., 124°57.74′ W. long.;

(64) 47°01.14′ N. lat., 124°59.35′ W. long.;

(65) 46°58.48′ N. lat., 124°57.81′ W. long.;

(66) 46°56.79′ N. lat., 124°56.03′ W. long.;

(67) 46°58.01′ N. lat., 124°55.09′ W. long.;

(68) 46°55.07′ N. lat., 124°54.14′ W. long.;

(69) 46°59.60′ N. lat., 124°49.79′ W. long.;

(70) 46°58.72′ N. lat., 124°48.78′ W. long.;

(71) 46°54.45′ N. lat., 124°48.36′ W. long.;

(72) 46°53.99′ N. lat., 124°49.95′ W. long.;

(73) 46°54.38′ N. lat., 124°52.73′ W. long.;

(74) 46°52.38′ N. lat., 124°52.02′ W. long.;

(75) 46°48.93′ N. lat., 124°49.17′ W. long.;

(76) 46°41.50′ N. lat., 124°43.00′ W. long.;

(77) 46°34.50′ N. lat., 124°28.50′ W. long.;

(78) 46°29.00′ N. lat., 124°30.00′ W. long.;

(79) 46°20.00′ N. lat., 124°36.50′ W. long.;

(80) 46°18.00′ N. lat., 124°38.00′ W. long.;

(81) 46°17.00′ N. lat., 124°35.50′ W. long.;

(82) 46°17.00′ N. lat., 124°22.50′ W. long.;

(83) 46°15.02′ N. lat., 124°23.77′ W. long.;

(84) 46°12.00′ N. lat., 124°35.00′ W. long.;

(85) 46°10.50′ N. lat., 124°39.00′ W. long.;

(86) 46°8.90′ N. lat., 124°39.11′ W. long.;

(87) 46°0.97′ N. lat., 124°38.56′ W. long.;

(88) 45°57.04′ N. lat., 124°36.42′ W. long.;

(89) 45°54.29′ N. lat., 124°40.02′ W. long.;

(90) 45°47.19′ N. lat., 124°35.58′ W. long.;

(91) 45°41.75′ N. lat., 124°28.32′ W. long.;

(92) 45°34.16′ N. lat., 124°24.23′ W. long.;

(93) 45°27.10′ N. lat., 124°21.74′ W. long.;

(94) 45°17.14′ N. lat., 124°17.85′ W. long.;

(95) 44°59.51′ N. lat., 124°19.34′ W. long.;

(96) 44°49.30′ N. lat., 124°29.97′ W. long.;

(97) 44°45.64′ N. lat., 124°33.89′ W. long.;

(98) 44°33.00′ N. lat., 124°36.88′ W. long.;

(99) 44°28.20′ N. lat., 124°44.72′ W. long.;

(100) 44°13.16′ N. lat., 124°56.36′ W. long.;

(101) 43°56.34′ N. lat., 124°55.74′ W. long.;

(102) 43°56.47′ N. lat., 124°34.61′ W. long.;

(103) 43°42.73′ N. lat., 124°32.41′ W. long.;

(104) 43°30.92′ N. lat., 124°34.43′ W. long.;

(105) 43°17.44′ N. lat., 124°41.16′ W. long.;

(106) 43°7.04′ N. lat., 124°41.25′ W. long.;

(107) 43°3.45′ N. lat., 124°44.36′ W. long.;

(108) 43°3.90′ N. lat., 124°50.81′ W. long.;

(109) 42°55.70′ N. lat., 124°52.79′ W. long.;

(110) 42°54.12′ N. lat., 124°47.36′ W. long.;

(111) 42°43.99′ N. lat., 124°42.38′ W. long.;

(112) 42°38.23′ N. lat., 124°41.25′ W. long.;

(113) 42°33.02′ N. lat., 124°42.38′ W. long.;

(114) 42°31.89′ N. lat., 124°42.04′ W. long.;

(115) 42°30.08′ N. lat., 124°42.67′ W. long.;

(116) 42°28.27′ N. lat., 124°47.08′ W. long.;

(117) 42°25.22′ N. lat., 124°43.51′ W. long.;

(118) 42°19.22′ N. lat., 124°37.92′ W. long.;

(119) 42°16.28′ N. lat., 124°36.11′ W. long.;

(120) 42°5.65′ N. lat., 124°34.92′ W. long.;

(121) 42°0.00′ N. lat., 124°35.27′ W. long.;

(122) 42°00.00′ N. lat., 124°35.26′ W. long.;

(123) 41°47.04′ N. lat., 124°27.64′ W. long.;

(124) 41°32.92′ N. lat., 124°28.79′ W. long.;

(125) 41°24.17′ N. lat., 124°28.46′ W. long.;

(126) 41°10.12′ N. lat., 124°20.50′ W. long.;

(127) 40°51.41′ N. lat., 124°24.38′ W. long.;

(128) 40°43.71′ N. lat., 124°29.89′ W. long.;

(129) 40°40.14′ N. lat., 124°30.90′ W. long.;

(130) 40°37.35′ N. lat., 124°29.05′ W. long.;

(131) 40°34.76′ N. lat., 124°29.82′ W. long.;

(132) 40°36.78′ N. lat., 124°37.06′ W. long.;

(133) 40°32.44′ N. lat., 124°39.58′ W. long.;

(134) 40°24.82′ N. lat., 124°35.12′ W. long.;

(135) 40°23.30′ N. lat., 124°31.60′ W. long.;

(136) 40°23.52′ N. lat., 124°28.78′ W. long.;

(137) 40°22.43′ N. lat., 124°25.00′ W. long.;

(138) 40°21.72′ N. lat., 124°24.94′ W. long.;

(139) 40°21.87′ N. lat., 124°27.96′ W. long.;

(140) 40°21.40′ N. lat., 124°28.74′ W. long.;

(141) 40°19.68′ N. lat., 124°28.49′ W. long.;

(142) 40°17.73′ N. lat., 124°25.43′ W. long.;

(143) 40°18.37′ N. lat., 124°23.35′ W. long.;

(144) 40°15.75′ N. lat., 124°26.05′ W. long.;

(145) 40°16.75′ N. lat., 124°33.71′ W. long.;

(146) 40°16.29′ N. lat., 124°34.36′ W. long.; and

(147) 40°10.00′ N. lat., 124°21.12′ W. long.

(iv) The 250-fm (457-m) depth contour used north of 38° N. lat. for March through October as a western boundary for the trawl RCA is defined by straight lines connecting all of the following points in the order stated:

(1) 48°14.68′ N. lat., 125°42.10′ W. long.;

(2) 48°12.83′ N. lat., 125°39.71′ W. long.;

(3) 48°13.00′ N. lat., 125°39.00′ W. long.;

(4) 48°12.73′ N. lat., 125°38.87′ W. long.;

(5) 48°12.43′ N. lat., 125°39.12′ W. long.;

(6) 48°11.83′ N. lat., 125°40.01′ W. long.;

(7) 48°11.78′ N. lat., 125°41.70′ W. long.;

(8) 48°10.62′ N. lat., 125°43.41′ W. long.;

(9) 48°09.23′ N. lat., 125°42.80′ W. long.;

(10) 48°08.79′ N. lat., 125°43.79′ W. long.;

(11) 48°08.50′ N. lat., 125°45.00′ W. long.;

(12) 48°07.43′ N. lat., 125°46.36′ W. long.;

(13) 48°06.00′ N. lat., 125°46.50′ W. long.;

(14) 48°05.38′ N. lat., 125°42.82′ W. long.;

(15) 48°04.19′ N. lat., 125°40.40′ W. long.;

(16) 48°03.50′ N. lat., 125°37.00′ W. long.;

(17) 48°01.50′ N. lat., 125°40.00′ W. long.;

(18) 47°57.00′ N. lat., 125°37.00′ W. long.;

(19) 47°55.21′ N. lat., 125°37.22′ W. long.;

(20) 47°54.02′ N. lat., 125°36.57′ W. long.;

(21) 47°53.67′ N. lat., 125°35.06′ W. long.;

(22) 47°54.14′ N. lat., 125°32.35′ W. long.;

(23) 47°55.50′ N. lat., 125°28.56′ W. long.;

(24) 47°57.03′ N. lat., 125°26.52′ W. long.;

(25) 47°57.98′ N. lat., 125°25.08′ W. long.;

(26) 48°00.54′ N. lat., 125°24.38′ W. long.;

(27) 48°01.45′ N. lat., 125°23.70′ W. long.;

(28) 48°01.97′ N. lat., 125°22.34′ W. long.;

(29) 48°03.68′ N. lat., 125°21.20′ W. long.;

(30) 48°01.96′ N. lat., 125°19.56′ W. long.;

(31) 48°00.98′ N. lat., 125°20.43′ W. long.;

(32) 48°00.00′ N. lat., 125°20.68′ W. long.;

(33) 47°58.00′ N. lat., 125°20.00′ W. long.;

(34) 47°57.65′ N. lat., 125°19.18′ W. long.;

(35) 47°58.00′ N. lat., 125°18.00′ W. long.;

(36) 47°56.59′ N. lat., 125°18.15′ W. long.;

(37) 47°51.30′ N. lat., 125°18.32′ W. long.;

(38) 47°49.88′ N. lat., 125°14.49′ W. long.;

(39) 47°49.00′ N. lat., 125°11.00′ W. long.;

(40) 47°47.99′ N. lat., 125°07.31′ W. long.;

(41) 47°46.47′ N. lat., 125°08.63′ W. long.;

(42) 47°46.00′ N. lat., 125°06.00′ W. long.;

(43) 47°44.50′ N. lat., 125°07.50′ W. long.;

(44) 47°43.39′ N. lat., 125°06.57′ W. long.;

(45) 47°42.37′ N. lat., 125°05.74′ W. long.;

(46) 47°40.61′ N. lat., 125°06.48′ W. long.;

(47) 47°37.43′ N. lat., 125°07.33′ W. long.;

(48) 47°33.68′ N. lat., 125°04.80′ W. long.;

(49) 47°30.00′ N. lat., 125°00.00′ W. long.;

(50) 47°28.00′ N. lat., 124°58.50′ W. long.;

(51) 47°28.88′ N. lat., 124°54.71′ W. long.;

(52) 47°27.70′ N. lat., 124°51.87′ W. long.;

(53) 47°24.84′ N. lat., 124°48.45′ W. long.;

(54) 47°21.76′ N. lat., 124°47.42′ W. long.;

(55) 47°18.84′ N. lat., 124°46.75′ W. long.;

(56) 47°19.82′ N. lat., 124°51.43′ W. long.;

(57) 47°18.13′ N. lat., 124°54.25′ W. long.;

(58) 47°13.50′ N. lat., 124°54.69′ W. long.;

(59) 47°15.00′ N. lat., 125°00.00′ W. long.;

(60) 47°08.00′ N. lat., 124°59.83′ W. long.;

(61) 47°05.79′ N. lat., 125°01.00′ W. long.;

(62) 47°03.34′ N. lat., 124°57.49′ W. long.;

(63) 47°01.00′ N. lat., 125°00.00′ W. long.;

(64) 46°55.00′ N. lat., 125°02.00′ W. long.;

(65) 46°51.00′ N. lat., 124°57.00′ W. long.;

(66) 46°47.00′ N. lat., 124°55.00′ W. long.;

(67) 46°34.00′ N. lat., 124°38.00′ W. long.;

(68) 46°30.50′ N. lat., 124°41.00′ W. long.;

(69) 46°33.00′ N. lat., 124°32.00′ W. long.;

(70) 46°29.00′ N. lat., 124°32.00′ W. long.;

(71) 46°20.00′ N. lat., 124°39.00′ W. long.;

(72) 46°18.16′ N. lat., 124°40.00′ W. long.;

(73) 46°15.83′ N. lat., 124°27.01′ W. long.;

(74) 46°15.00′ N. lat., 124°30.96′ W. long.;

(75) 46°13.17′ N. lat., 124°37.87′ W. long.;

(76) 46°13.17′ N. lat., 124°38.75′ W. long.;

(77) 46°10.50′ N. lat., 124°42.00′ W. long.;

(78) 46°6.21′ N. lat., 124°41.85′ W. long.;

(79) 46°3.02′ N. lat., 124°50.27′ W. long.;

(80) 45°57.00′ N. lat., 124°45.52′ W. long.;

(81) 45°46.85′ N. lat., 124°45.91′ W. long.;

(82) 45°45.81′ N. lat., 124°47.05′ W. long.;

(83) 45°44.87′ N. lat., 124°45.98′ W. long.;

(84) 45°43.44′ N. lat., 124°46.03′ W. long.;

(85) 45°35.82′ N. lat., 124°45.72′ W. long.;

(86) 45°35.70′ N. lat., 124°42.89′ W. long.;

(87) 45°24.45′ N. lat., 124°38.21′ W. long.;

(88) 45°11.68′ N. lat., 124°39.38′ W. long.;

(89) 44°57.94′ N. lat., 124°37.02′ W. long.;

(90) 44°44.28′ N. lat., 124°50.79′ W. long.;

(91) 44°32.63′ N. lat., 124°54.21′ W. long.;

(92) 44°23.20′ N. lat., 124°49.87′ W. long.;

(93) 44°13.17′ N. lat., 124°58.81′ W. long.;

(94) 43°57.92′ N. lat., 124°58.29′ W. long.;

(95) 43°50.12′ N. lat., 124°53.36′ W. long.;

(96) 43°49.53′ N. lat., 124°43.96′ W. long.;

(97) 43°42.76′ N. lat., 124°41.40′ W. long.;

(98) 43°24.00′ N. lat., 124°42.61′ W. long.;

(99) 43°19.74′ N. lat., 124°45.12′ W. long.;

(100) 43°19.62′ N. lat., 124°52.95′ W. long.;

(101) 43°17.41′ N. lat., 124°53.02′ W. long.;

(102) 42°49.15′ N. lat., 124°54.93′ W. long.;

(103) 42°46.74′ N. lat., 124°53.39′ W. long.;

(104) 42°43.76′ N. lat., 124°51.64′ W. long.;

(105) 42°45.41′ N. lat., 124°49.35′ W. long.;

(106) 42°43.92′ N. lat., 124°45.92′ W. long.;

(107) 42°38.87′ N. lat., 124°43.38′ W. long.;

(108) 42°34.78′ N. lat., 124°46.56′ W. long.;

(109) 42°31.47′ N. lat., 124°46.89′ W. long.;

(110) 42°31.00′ N. lat., 124°44.28′ W. long.;

(111) 42°29.22′ N. lat., 124°46.93′ W. long.;

(112) 42°28.39′ N. lat., 124°49.94′ W. long.;

(113) 42°26.28′ N. lat., 124°47.60′ W. long.;

(114) 42°19.58′ N. lat., 124°43.21′ W. long.;

(115) 42°13.75′ N. lat., 124°40.06′ W. long.;

(116) 42°5.12′ N. lat., 124°39.06′ W. long.;

(117) 41°59.99′ N. lat., 124°37.72′ W. long.;

(118) 42°0.00′ N. lat., 124°37.76′ W. long.;

(119) 41°47.93′ N. lat., 124°31.79′ W. long.;

(120) 41°21.35′ N. lat., 124°30.35′ W. long.;

(121) 41°7.11′ N. lat., 124°25.25′ W. long.;

(122) 40°57.37′ N. lat., 124°30.25′ W. long.;

(123) 40°41.03′ N. lat., 124°33.21′ W. long.;

(124) 40°37.40′ N. lat., 124°38.96′ W. long.;

(125) 40°33.70′ N. lat., 124°42.50′ W. long.;

(126) 40°31.31′ N. lat., 124°41.59′ W. long.;

(127) 40°25.00′ N. lat., 124°36.65′ W. long.;

(128) 40°22.42′ N. lat., 124°32.19′ W. long.;

(129) 40°17.17′ N. lat., 124°32.21′ W. long.;

(130) 40°18.68′ N. lat., 124°50.44′ W. long.;

(131) 40°10.11′ N. lat., 124°28.25′ W. long.;

(132) 40°1.63′ N. lat., 124°17.25′ W. long.;

(133) 39°51.85′ N. lat., 124°10.33′ W. long.;

(134) 39°32.41′ N. lat., 124°0.01′ W. long.;

(135) 38°57.16′ N. lat., 124°1.89′ W. long.;

(136) 38°11.66′ N. lat., 123°30.87′ W. long.;

(137) 38°3.18′ N. lat., 123°33.45′ W. long.; and

(138) 38°00.00′ N. lat., 123°28.84′ W. long.

(v) The 250-fm (457-m) depth contour modified to allow fishing for petrale in winter months of January, February, November, and December and used north of 38° N. lat. as a western boundary for the trawl RCA is defined by straight lines connecting all of the following points in the order stated:

(1) 48°14.71′ N. lat., 125°41.95′ W. long.;

(2) 48°13.00′ N. lat., 125°39.00′ W. long.;

(3) 48°08.50′ N. lat., 125°45.00′ W. long.;

(4) 48°06.00′ N. lat., 125°46.50′ W. long.;

(5) 48°03.50′ N. lat., 125°37.00′ W. long.;

(6) 48°01.50′ N. lat., 125°40.00′ W. long.;

(7) 47°57.00′ N. lat., 125°37.00′ W. long.;

(8) 47°55.50′ N. lat., 125°28.50′ W. long.;

(9) 47°58.00′ N. lat., 125°25.00′ W. long.;

(10) 48°00.50′ N. lat., 125°24.50′ W. long.;

(11) 48°03.50′ N. lat., 125°21.00′ W. long.;

(12) 48°02.00′ N. lat., 125°19.50′ W. long.;

(13) 48°00.00′ N. lat., 125°21.00′ W. long.;

(14) 47°58.00′ N. lat., 125°20.00′ W. long.;

(15) 47°58.00′ N. lat., 125°18.00′ W. long.;

(16) 47°52.00′ N. lat., 125°16.50′ W. long.;

(17) 47°49.00′ N. lat., 125°11.00′ W. long.;

(18) 47°46.00′ N. lat., 125°06.00′ W. long.;

(19) 47°44.50′ N. lat., 125°07.50′ W. long.;

(20) 47°42.00′ N. lat., 125°06.00′ W. long.;

(21) 47°38.00′ N. lat., 125°07.00′ W. long.;

(22) 47°30.00′ N. lat., 125°00.00′ W. long.;

(23) 47°28.00′ N. lat., 124°58.50′ W. long.;

(24) 47°28.88′ N. lat., 124°54.71′ W. long.;

(25) 47°27.70′ N. lat., 124°51.87′ W. long.;

(26) 47°24.84′ N. lat., 124°48.45′ W. long.;

(27) 47°21.76′ N. lat., 124°47.42′ W. long.;

(28) 47°18.84′ N. lat., 124°46.75′ W. long.;

(29) 47°19.82′ N. lat., 124°51.43′ W. long.;

(30) 47°18.13′ N. lat., 124°54.25′ W. long.;

(31) 47°13.50′ N. lat., 124°54.69′ W. long.;

(32) 47°15.00′ N. lat., 125°00.00′ W. long.;

(33) 47°08.00′ N. lat., 124°59.82′ W. long.;

(34) 47°05.79′ N. lat., 125°01.00′ W. long.;

(35) 47°03.34′ N. lat., 124°57.49′ W. long.;

(36) 47°01.00′ N. lat., 125°00.00′ W. long.;

(37) 46°55.00′ N. lat., 125°02.00′ W. long.;

(38) 46°51.00′ N. lat., 124°57.00′ W. long.;

(39) 46°47.00′ N. lat., 124°55.00′ W. long.;

(40) 46°34.00′ N. lat., 124°38.00′ W. long.;

(41) 46°30.50′ N. lat., 124°41.00′ W. long.;

(42) 46°33.00′ N. lat., 124°32.00′ W. long.;

(43) 46°29.00′ N. lat., 124°32.00′ W. long.;

(44) 46°20.00′ N. lat., 124°39.00′ W. long.;

(45) 46°18.16′ N. lat., 124°40.00′ W. long.;

(46) 46°15.83′ N. lat., 124°27.01′ W. long.;

(47) 46°15.00′ N. lat., 124°30.96′ W. long.;

(48) 46°13.17′ N. lat., 124°38.76′ W. long.;

(49) 46°10.51′ N. lat., 124°41.99′ W. long.;

(50) 46°6.24′ N. lat., 124°41.81′ W. long.;

(51) 46°3.04′ N. lat., 124°50.26′ W. long.;

(52) 45°56.99′ N. lat., 124°45.45′ W. long.;

(53) 45°49.94′ N. lat., 124°45.75′ W. long.;

(54) 45°49.94′ N. lat., 124°42.33′ W. long.;

(55) 45°45.73′ N. lat., 124°42.18′ W. long.;

(56) 45°45.73′ N. lat., 124°43.82′ W. long.;

(57) 45°41.94′ N. lat., 124°43.61′ W. long.;

(58) 45°41.58′ N. lat., 124°39.86′ W. long.;

(59) 45°38.45′ N. lat., 124°39.94′ W. long.;

(60) 45°35.75′ N. lat., 124°42.91′ W. long.;

(61) 45°24.49′ N. lat., 124°38.20′ W. long.;

(62) 45°14.43′ N. lat., 124°39.05′ W. long.;

(63) 45°14.30′ N. lat., 124°34.19′ W. long.;

(64) 45°8.98′ N. lat., 124°34.26′ W. long.;

(65) 45°9.02′ N. lat., 124°38.81′ W. long.;

(66) 44°57.98′ N. lat., 124°36.98′ W. long.;

(67) 44°56.62′ N. lat., 124°38.32′ W. long.;

(68) 44°50.82′ N. lat., 124°35.52′ W. long.;

(69) 44°46.89′ N. lat., 124°38.32′ W. long.;

(70) 44°50.78′ N. lat., 124°44.24′ W. long.;

(71) 44°44.27′ N. lat., 124°50.78′ W. long.;

(72) 44°32.63′ N. lat., 124°54.24′ W. long.;

(73) 44°23.25′ N. lat., 124°49.78′ W. long.;

(74) 44°13.16′ N. lat., 124°58.81′ W. long.;

(75) 43°57.88′ N. lat., 124°58.25′ W. long.;

(76) 43°56.89′ N. lat., 124°57.33′ W. long.;

(77) 43°53.41′ N. lat., 124°51.95′ W. long.;

(78) 43°51.56′ N. lat., 124°47.38′ W. long.;

(79) 43°51.49′ N. lat., 124°37.77′ W. long.;

(80) 43°48.02′ N. lat., 124°43.31′ W. long.;

(81) 43°42.77′ N. lat., 124°41.39′ W. long.;

(82) 43°24.09′ N. lat., 124°42.57′ W. long.;

(83) 43°19.73′ N. lat., 124°45.09′ W. long.;

(84) 43°15.98′ N. lat., 124°47.76′ W. long.;

(85) 43°4.14′ N. lat., 124°52.55′ W. long.;

(86) 43°4.00′ N. lat., 124°53.88′ W. long.;

(87) 42°54.69′ N. lat., 124°54.54′ W. long.;

(88) 42°45.46′ N. lat., 124°49.37′ W. long.;

(89) 42°43.91′ N. lat., 124°45.90′ W. long.;

(90) 42°38.84′ N. lat., 124°43.36′ W. long.;

(91) 42°34.82′ N. lat., 124°46.56′ W. long.;

(92) 42°31.57′ N. lat., 124°46.86′ W. long.;

(93) 42°30.98′ N. lat., 124°44.27′ W. long.;

(94) 42°29.21′ N. lat., 124°46.93′ W. long.;

(95) 42°28.52′ N. lat., 124°49.40′ W. long.;

(96) 42°26.06′ N. lat., 124°46.61′ W. long.;

(97) 42°21.82′ N. lat., 124°43.76′ W. long.;

(98) 42°17.47′ N. lat., 124°38.89′ W. long.;

(99) 42°13.67′ N. lat., 124°37.51′ W. long.;

(100) 42°13.76′ N. lat., 124°40.03′ W. long.;

(101) 42°5.12′ N. lat., 124°39.06′ W. long.;

(102) 42°2.67′ N. lat., 124°38.41′ W. long.;

(103) 42°2.67′ N. lat., 124°35.95′ W. long.;

(104) 42°0.00′ N. lat., 124°35.88′ W. long.;

(105) 41°59.99′ N. lat., 124°35.92′ W. long.;

(106) 41°56.38′ N. lat., 124°34.96′ W. long.;

(107) 41°53.98′ N. lat., 124°32.50′ W. long.;

(108) 41°50.69′ N. lat., 124°30.46′ W. long.;

(109) 41°48.30′ N. lat., 124°29.91′ W. long.;

(110) 41°47.93′ N. lat., 124°31.79′ W. long.;

(111) 41°21.35′ N. lat., 124°30.35′ W. long.;

(112) 41°7.11′ N. lat., 124°25.25′ W. long.;

(113) 40°57.37′ N. lat., 124°30.25′ W. long.;

(114) 40°41.03′ N. lat., 124°33.21′ W. long.;

(115) 40°37.40′ N. lat., 124°38.96′ W. long.;

(116) 40°33.70′ N. lat., 124°42.50′ W. long.;

(117) 40°31.31′ N. lat., 124°41.59′ W. long.;

(118) 40°25.00′ N. lat., 124°36.65′ W. long.;

(119) 40°22.42′ N. lat., 124°32.19′ W. long.;

(120) 40°17.17′ N. lat., 124°32.21′ W. long.;

(121) 40°18.68′ N. lat., 124°50.44′ W. long.;

(122) 40°10.11′ N. lat., 124°28.25′ W. long.;

(123) 40°1.63′ N. lat., 124°17.25′ W. long.;

(124) 39°51.85′ N. lat., 124°10.33′ W. long.;

(125) 39°32.41′ N. lat., 124°0.01′ W. long.;

(126) 38°57.16′ N. lat., 124°1.89′ W. long.;

(127) 38°11.66′ N. lat., 123°30.87′ W. long.;

(128) 38°3.18′ N. lat., 123°33.45′ W. long.; and

(129) 38°00.00′ N. lat., 123°28.84′ W. long.

(vi) The 50-fm (91-m) depth contour used between 40°10′ N. lat. and 34°27′ N. lat. as an eastern boundary for the trawl RCA in the months of January and February is defined by straight lines connecting all of the following points in the order stated:

(1) 40°10.01′ N. lat., 124°19.97′ W. long.;

(2) 40°9.20′ N. lat., 124°15.81′ W. long.;

(3) 40°7.51′ N. lat., 124°15.29′ W. long.;

(4) 40°5.22′ N. lat., 124°10.06′ W. long.;

(5) 40°6.51′ N. lat., 124°8.01′ W. long.;

(6) 40°0.72′ N. lat., 124°8.45′ W. long.;

(7) 39°56.60′ N. lat., 124°7.12′ W. long.;

(8) 39°52.58′ N. lat., 124°3.57′ W. long.;

(9) 39°50.65′ N. lat., 123°57.98′ W. long.;

(10) 39°40.16′ N. lat., 123°52.41′ W. long.;

(11) 39°30.12′ N. lat., 123°52.92′ W. long.;

(12) 39°24.53′ N. lat., 123°55.16′ W. long.;

(13) 39°11.58′ N. lat., 123°50.93′ W. long.;

(14) 38°55.13′ N. lat., 123°51.14′ W. long.;

(15) 38°28.58′ N. lat., 123°22.84′ W. long.;

(16) 38°14.58′ N. lat., 123°9.93′ W. long.;

(17) 38°1.86′ N. lat., 123°9.76′ W. long.;

(18) 37°53.66′ N. lat., 123°12.06′ W. long.;

(19) 37°48.01′ N. lat., 123°15.84′ W. long.;

(20) 37°36.77′ N. lat., 122°58.48′ W. long.;

(21) 37°1.02′ N. lat., 122°33.71′ W. long.;

(22) 37°2.28′ N. lat., 122°25.06′ W. long.;

(23) 36°48.20′ N. lat., 122°3.28′ W. long.;

(24) 36°51.46′ N. lat., 121°57.54′ W. long.;

(25) 36°44.14′ N. lat., 121°58.10′ W. long.;

(26) 36°36.76′ N. lat., 122°1.16′ W. long.;

(27) 36°15.62′ N. lat., 121°57.13′ W. long.;

(28) 36°10.60′ N. lat., 121°43.65′ W. long.;

(29) 35°40.38′ N. lat., 121°22.59′ W. long.;

(30) 35°24.35′ N. lat., 121°2.53′ W. long.;

(31) 35°2.66′ N. lat., 120°51.63′ W. long.;

(32) 34°39.52′ N. lat., 120°48.72′ W. long.;

(33) 34°31.26′ N. lat., 120°44.12′ W. long.; and

(34) 34°27.00′ N. lat., 120°31.25′ W. long.

(vii) The 60-fm (110-m) depth contour used between 40°10′ N. lat. and 34°27′ N. lat. as an eastern boundary for the trawl RCA in March through October is defined by straight lines connecting all of the following points in the order stated:

(1) 40°10.01′ N. lat., 124°19.97′ W. long.;

(2) 40°9.20′ N. lat., 124°15.81′ W. long.;

(3) 40°7.51′ N. lat., 124°15.29′ W. long.;

(4) 40°5.22′ N. lat., 124°10.06′ W. long.;

(5) 40°6.51′ N. lat., 124°8.01′ W. long.;

(6) 40°0.72′ N. lat., 124°8.45′ W. long.;

(7) 39°56.60′ N. lat., 124°7.12′ W. long.;

(8) 39°52.58′ N. lat., 124°3.57′ W. long.;

(9) 39°50.65′ N. lat., 123°57.98′ W. long.;

(10) 39°40.16′ N. lat., 123°52.41′ W. long.;

(11) 39°30.12′ N. lat., 123°52.92′ W. long.;

(12) 39°24.53′ N. lat., 123°55.16′ W. long.;

(13) 39°11.58′ N. lat., 123°50.93′ W. long.;

(14) 38°55.13′ N. lat., 123°51.14′ W. long.;

(15) 38°28.58′ N. lat., 123°22.84′ W. long.;

(16) 38°8.32′ N. lat., 123°14.60′ W. long.;

(17) 38°0.27′ N. lat., 123°15.29′ W. long.;

(18) 37°56.93′ N. lat., 123°21.61′ W. long.;

(19) 37°48.01′ N. lat., 123°15.84′ W. long.;

(20) 37°36.77′ N. lat., 122°58.48′ W. long.;

(21) 37°1.02′ N. lat., 122°33.71′ W. long.;

(22) 37°2.28′ N. lat., 122°25.06′ W. long.;

(23) 36°48.20′ N. lat., 122°3.28′ W. long.;

(24) 36°51.46′ N. lat., 121°57.54′ W. long.;

(25) 36°44.14′ N. lat., 121°58.10′ W. long.;

(26) 36°36.76′ N. lat., 122°1.16′ W. long.;

(27) 36°15.62′ N. lat., 121°57.13′ W. long.;

(28) 36°10.60′ N. lat., 121°43.65′ W. long.;

(29) 35°40.38′ N. lat., 121°22.59′ W. long.;

(30) 35°24.35′ N. lat., 121°2.53′ W. long.;

(31) 35°2.66′ N. lat., 120°51.63′ W. long.;

(32) 34°39.52′ N. lat., 120°48.72′ W. long.;

(33) 34°31.26′ N. lat., 120°44.12′ W. long.; and

(34) 34°27.00′ N. lat., 120°31.25′ W. long.

(viii) The 100-fm (183-m) depth contour used between 34°27′ N. lat. and the U.S. border with Mexico as an eastern boundary for the trawl RCA is defined by straight lines connecting all of the following points in the order stated:

(1) 34°27.00′ N. lat., 120°31.74′ W. long.;

(2) 34°21.90′ N. lat., 120°25.25′ W. long.;

(3) 34°24.86′ N. lat., 120°16.81′ W. long.;

(4) 34°22.80′ N. lat., 119°57.06′ W. long.;

(5) 34°18.59′ N. lat., 119°44.84′ W. long.;

(6) 34°15.04′ N. lat., 119°40.34′ W. long.;

(7) 34°14.40′ N. lat., 119°45.39′ W. long.;

(8) 34°12.32′ N. lat., 119°42.41′ W. long.;

(9) 34°9.71′ N. lat., 119°28.85′ W. long.;

(10) 34°4.70′ N. lat., 119°15.38′ W. long.;

(11) 34°3.33′ N. lat., 119°12.93′ W. long.;

(12) 34°2.72′ N. lat., 119°7.01′ W. long.;

(13) 34°3.90′ N. lat., 119°4.64′ W. long.;

(14) 34°1.80′ N. lat., 119°3.23′ W. long.;

(15) 33°59.32′ N. lat., 119°3.50′ W. long.;

(16) 33°59.00′ N. lat., 118°59.55′ W. long.;

(17) 33°59.51′ N. lat., 118°57.25′ W. long.;

(18) 33°58.82′ N. lat., 118°52.47′ W. long.;

(19) 33°58.54′ N. lat., 118°41.86′ W. long.;

(20) 33°55.07′ N. lat., 118°34.25′ W. long.;

(21) 33°54.28′ N. lat., 118°38.68′ W. long.;

(22) 33°51.00′ N. lat., 118°36.66′ W. long.;

(23) 33°39.77′ N. lat., 118°18.41′ W. long.;

(24) 33°35.50′ N. lat., 118°16.85′ W. long.;

(25) 33°32.68′ N. lat., 118°9.82′ W. long.;

(26) 33°34.09′ N. lat., 117°54.06′ W. long.;

(27) 33°31.60′ N. lat., 117°49.28′ W. long.;

(28) 33°16.07′ N. lat., 117°34.74′ W. long.;

(29) 33°7.06′ N. lat., 117°22.71′ W. long.;

(30) 32°53.34′ N. lat., 117°19.13′ W. long.;

(31) 32°46.39′ N. lat., 117°23.45′ W. long.;

(32) 32°42.79′ N. lat., 117°21.16′ W. long.; and

(33) 32°34.22′ N. lat., 117°21.20′ W. long.

(ix) The 150-fm (274-m) depth contour used between 38° N. lat. and the U.S. border with Mexico as a western boundary for both the trawl RCA and the non-trawl RCA is defined by straight lines connecting all of the following points in the order stated:

(1) 37°59.73′ N. lat., 123°29.85′ W. long.;

(2) 37°51.46′ N. lat., 123°25.16′ W. long.;

(3) 37°44.06′ N. lat., 123°11.44′ W. long.;

(4) 37°35.26′ N. lat., 123°2.29′ W. long.;

(5) 37°14.00′ N. lat., 122°50.00′ W. long.;

(6) 37°1.00′ N. lat., 122°36.00′ W. long.;

(7) 36°58.07′ N. lat., 122°28.35′ W. long.;

(8) 37°0.71′ N. lat., 122°24.53′ W. long.;

(9) 36°57.50′ N. lat., 122°24.98′ W. long.;

(10) 36°58.38′ N. lat., 122°21.85′ W. long.;

(11) 36°55.85′ N. lat., 122°21.95′ W. long.;

(12) 36°52.86′ N. lat., 122°12.89′ W. long.;

(13) 36°48.71′ N. lat., 122°9.28′ W. long.;

(14) 36°46.65′ N. lat., 122°4.10′ W. long.;

(15) 36°51.00′ N. lat., 121°58.00′ W. long.;

(16) 36°44.00′ N. lat., 121°59.00′ W. long.;

(17) 36°38.00′ N. lat., 122°2.00′ W. long.;

(18) 36°26.00′ N. lat., 121°59.05′ W. long.;

(19) 36°22.00′ N. lat., 122°1.00′ W. long.;

(20) 36°19.00′ N. lat., 122°5.00′ W. long.;

(21) 36°14.00′ N. lat., 121°58.00′ W. long.;

(22) 36°10.61′ N. lat., 121°44.51′ W. long.;

(23) 35°50.53′ N. lat., 121°29.93′ W. long.;

(24) 35°46.00′ N. lat., 121°28.00′ W. long.;

(25) 35°38.94′ N. lat., 121°23.16′ W. long.;

(26) 35°26.00′ N. lat., 121°8.00′ W. long.;

(27) 35°7.42′ N. lat., 120°57.08′ W. long.;

(28) 34°42.00′ N. lat., 120°54.00′ W. long.;

(29) 34°29.00′ N. lat., 120°44.00′ W. long.;

(30) 34°22.00′ N. lat., 120°32.00′ W. long.;

(31) 34°21.00′ N. lat., 120°21.00′ W. long.;

(32) 34°24.00′ N. lat., 120°15.00′ W. long.;

(33) 34°22.11′ N. lat., 119°56.63′ W. long.;

(34) 34°19.00′ N. lat., 119°48.00′ W. long.;

(35) 34°15.00′ N. lat., 119°48.00′ W. long.;

(36) 34°8.00′ N. lat., 119°37.00′ W. long.;

(37) 34°7.00′ N. lat., 120°11.00′ W. long.;

(38) 34°13.00′ N. lat., 120°30.00′ W. long.;

(39) 34°9.00′ N. lat., 120°38.00′ W. long.;

(40) 33°58.00′ N. lat., 120°29.00′ W. long.;

(41) 33°51.00′ N. lat., 120°9.00′ W. long.;

(42) 33°38.00′ N. lat., 119°58.00′ W. long.;

(43) 33°38.00′ N. lat., 119°50.00′ W. long.;

(44) 33°46.25′ N. lat., 119°49.32′ W. long.;

(45) 33°53.82′ N. lat., 119°53.42′ W. long.;

(46) 33°59.00′ N. lat., 119°21.00′ W. long.;

(47) 34°2.00′ N. lat., 119°13.00′ W. long.;

(48) 34°1.52′ N. lat., 119°4.50′ W. long.;

(49) 33°58.83′ N. lat., 119°3.76′ W. long.;

(50) 33°56.55′ N. lat., 118°40.50′ W. long.;

(51) 33°51.00′ N. lat., 118°38.00′ W. long.;

(52) 33°39.63′ N. lat., 118°18.75′ W. long.;

(53) 33°35.44′ N. lat., 118°17.57′ W. long.;

(54) 33°31.98′ N. lat., 118°12.59′ W. long.;

(55) 33°33.25′ N. lat., 117°54.15′ W. long.;

(56) 33°31.43′ N. lat., 117°49.84′ W. long.;

(57) 33°16.53′ N. lat., 117°36.13′ W. long.;

(58) 33°6.51′ N. lat., 117°24.11′ W. long.;

(59) 32°54.11′ N. lat., 117°21.45′ W. long.;

(60) 32°46.15′ N. lat., 117°24.26′ W. long.;

(61) 32°41.97′ N. lat., 117°22.10′ W. long.;

(62) 32°39.00′ N. lat., 117°28.13′ W. long.; and

(63) 32°34.84′ N. lat., 117°24.62′ W. long.

(x) The 150-fm (274-m) depth contour used around islands/seamounts off the state of California is defined by straight lines around each island/seamount connecting all of the following points in the order stated:

(A) San Nicholas Island

(1) 33°32.73′ N. lat., 119°47.00′ W. long.;

(2) 33°14.00′ N. lat., 119°15.00′ W. long.;

(3) 33°12.00′ N. lat., 119°18.00′ W. long.;

(4) 33°11.00′ N. lat., 119°26.00′ W. long.;

(5) 33°13.13′ N. lat., 119°43.19′ W. long.;

(6) 33°13.11′ N. lat., 119°53.05′ W. long.;

(7) 33°30.00′ N. lat., 119°52.00′ W. long.; and

(8) 33°32.73′ N. lat., 119°47.00′ W. long.

(B) Santa Catalina Island

(1) 33°19.00′ N. lat., 118°15.00′ W. long.;

(2) 33°26.00′ N. lat., 118°22.00′ W. long.;

(3) 33°28.00′ N. lat., 118°28.00′ W. long.;

(4) 33°30.00′ N. lat., 118°31.00′ W. long.;

(5) 33°31.00′ N. lat., 118°37.00′ W. long.;

(6) 33°29.00′ N. lat., 118°41.00′ W. long.;

(7) 33°23.00′ N. lat., 118°31.00′ W. long.;

(8) 33°21.00′ N. lat., 118°33.00′ W. long.;

(9) 33°18.00′ N. lat., 118°28.00′ W. long.;

(10) 33°16.00′ N. lat., 118°13.00′ W. long.; and

(11) 33°19.00′ N. lat., 118°15.00′ W. long.

(C) San Clemente Island

(1) 32°48.50′ N. lat., 118°18.34′ W. long.;

(2) 32°56.00′ N. lat., 118°29.00′ W. long.;

(3) 33°3.00′ N. lat., 118°34.00′ W. long.;

(4) 33°5.00′ N. lat., 118°38.00′ W. long.;

(5) 33°3.00′ N. lat., 118°40.00′ W. long.;

(6) 32°48.00′ N. lat., 118°31.00′ W. long.;

(7) 32°43.00′ N. lat., 118°24.00′ W. long.; and

(8) 32°48.50′ N. lat., 118°18.34′ W. long.

(D) Santa Barbara Island

(1) 33°36.06′ N. lat., 118°57.15′ W. long.;

(2) 33°20.64′ N. lat., 118°59.39′ W. long.;

(3) 33°23.00′ N. lat., 119°7.00′ W. long.;

(4) 33°43.00′ N. lat., 119°14.00′ W. long.;

(5) 33°46.00′ N. lat., 119°12.00′ W. long.; and

(6) 33°36.06′ N. lat., 118°57.15′ W. long.

(E) Orange County Seamount

(1) 33°25.00′ N. lat., 118°1.00′ W. long.;

(2) 33°25.00′ N. lat., 117°58.00′ W. long.;

(3) 33°23.00′ N. lat., 117°58.00′ W. long.;

(4) 33°23.00′ N. lat., 118°1.00′ W. long.; and

(5) 33°25.00′ N. lat., 118°1.00′ W. long.

(20) Rockfish categories. Rockfish (except thornyheads) are divided into categories north and south of 40°10′ N. lat., depending on the depth where they most often are caught: nearshore, shelf, or slope (scientific names appear in Table 2). Nearshore rockfish are further divided into shallow nearshore and deeper nearshore categories south of 40°10′ N. lat. Trip limits are established for “minor rockfish” species according to these categories (see Tables 2-5).

(a) Nearshore rockfish consists entirely of the minor nearshore rockfish species listed in Table 2, which includes California scorpionfish.

(i) Shallow nearshore rockfish consists of black-and-yellow rockfish, China rockfish, gopher rockfish, grass rockfish, and kelp rockfish.

(ii) Deeper nearshore rockfish consists of black rockfish, blue rockfish, brown rockfish, calico rockfish, copper rockfish, olive rockfish, quillback rockfish, and treefish.

(iii) California scorpionfish.

(b) Shelf rockfish consists of canary rockfish, shortbelly rockfish, widow rockfish, yelloweye rockfish, yellowtail rockfish, bocaccio, chilipepper, cowcod, and the minor shelf rockfish species listed in Table 2.

(c) Slope rockfish consists of POP, splitnose rockfish, darkblotched rockfish, and the minor slope rockfish species listed in Table 2.

BILLING CODE 3510-22-S

B. Limited Entry Fishery

(1) General. Most species taken in limited entry fisheries will be managed with cumulative trip limits (see paragraph A.(1)(d),) size limits (see paragraph A.(6)), seasons (see paragraph A.(7)), and areas that are closed to specific gear types. The trawl fishery has gear requirements and trip limits that differ by the type of trawl gear on board (see paragraph A.(14)). Cowcod retention is prohibited in all fisheries and groundfish vessels operating south of Point Conception must adhere to CCA restrictions (see paragraph A.(20)). Yelloweye rockfish retention is prohibited in the limited entry fixed gear fisheries. Most of the management measures for the limited entry fishery are listed above and in the following tables: Table 3 (North), Table 3 (South), Table 4 (North), and Table 4 (South). A header in Table 3 (North), Table 3 (South), Table 4 (North), and Table 5 (South) approximates the Rockfish Conservation Area (i.e., closed area) for vessels participating in the limited entry fishery. [Note: Between a line drawn due south from Point Fermin (33° 42′ 30” N. lat.; 118° 17′ 30” W. long.) and a line drawn due west from the Newport, South Jetty (33° 35′ 37” N. lat.; 117° 52′ 50” W. long.,) vessels fishing with hook-and-line- and/or trap (or pot) gear may operate from shore to a boundary line approximating 50 fm (91 m).]

Management measures may be changed during the year by announcement in the Federal Register. However, the management regimes for several fisheries (nontrawl sablefish, Pacific whiting, and black rockfish) do not neatly fit into these tables and are addressed immediately following Table 3 (North), Table 3 (South), Table 4 (North), and Table 4 (South).

BILLING CODE 3510-22-C

(2) Sablefish. The limited entry sablefish allocation is further allocated 58 percent to trawl gear and 42 percent to nontrawl gear.

(a) Trawl trip and size limits. Management measures for the limited entry trawl fishery for sablefish are listed in Table 3 (North) and Table 3 (South).

(b) Nontrawl (fixed gear) trip and size limits. To take, retain, possess, or land sablefish during the primary season for the limited entry fixed gear sablefish fishery, the owner of a vessel must hold a limited entry permit for that vessel, affixed with both a gear endorsement for longline or trap (or pot) gear, and a sablefish endorsement. (See 50 CFR 663.323(a)(2)(i).) A sablefish endorsement is not required to participate in the limited entry daily trip limit fishery.

(i) Primary season. The primary season begins at 12 noon l.t. on April 1, 2003, and ends at 12 noon l.t. on October 31, 2003. There are no pre-season or post-season closures. During the primary season, each vessel with at least one limited entry permit with a sablefish endorsement that is registered for use with that vessel may land up to the cumulative trip limit for each of the sablefish-endorsed limited entry permits registered for use with that vessel, for the tier(s) to which the permit(s) are assigned. For 2003, the following limits would be in effect: Tier 1, 53,000 lb (24,040 kg); Tier 2, 24,000 lb (10,886 kg); Tier 3, 14,000 lb (6,350 kg). All limits are in round weight. If a vessel is registered for use with a sablefish-endorsed limited entry permit, all sablefish taken after April 1, 2003, count against the cumulative limits associated with the permit(s) registered for use with that vessel.

(ii) Daily trip limit. Daily and/or weekly sablefish trip limits listed in Table 4 (North) and Table 4 (South) apply to any limited entry fixed gear vessels not participating in the primary sablefish season described in paragraph (i) of this section. North of 36° N. lat., the daily and/or weekly trip limits apply to fixed gear vessels that are not registered for use with a sablefish-endorsed limited entry permit, and to fixed gear vessels that are registered for use with a sablefish-endorsed limited entry permit when those vessels are not fishing against their primary sablefish season cumulative limits. South of 36° N. lat., the daily and/or weekly trip limits for taking and retaining sablefish that are listed in Table 4 (South) apply throughout the year to all vessels registered for use with a limited entry fixed gear permit.

(iii) Participating in both the primary and daily trip limit fisheries. A vessel that is eligible to participate in the primary sablefish season may participate in the daily trip limit fishery for sablefish once that vessel′s primary season sablefish limit(s) have been taken or after October 31, 2003, whichever occurs first. No vessel may land sablefish against both its primary season cumulative sablefish limits and against the daily trip limit fishery limits within the same 24 hour period of 0001 hour l.t. to 2400 hours l.t. If a vessel has taken all of its tier limit except for an amount that is smaller than the daily trip limit amount, that vessel′s subsequent sablefish landings are automatically subject to daily and/or weekly trip limits.

(3) Whiting. Additional regulations that apply to the whiting fishery are found at 50 CFR 660.306 and at 50 CFR 660.323(a)(3) and (a)(4).

(a) Allocations. The non-tribal allocations, based on percentages that are applied to the commercial OY of 121,200 mt in 2003 (see 50 CFR 660.323 (a)(4)), are as follows:

(i) Catcher/processor sector—41,288 mt (34 percent);

(ii) Mothership sector—29,080 mt (24 percent);

(iii) Shore-based sector—50,904 mt (42 percent). No more than 5 percent (2,545 mt) of the shore-based whiting allocation may be taken before the shore-based fishery begins north of 42° N. lat. on June 15, 2003.

(iv) Tribal allocation—See paragraph V.

(b) Seasons. The 2003 primary seasons for the whiting fishery start on the same dates as in 2002, as follows (see 50 CFR 660.323(a)(3)):

(i) Catcher/processor sector—May 15;

(ii) Mothership sector—May 15;

(iii) Shore-based sector—June 15 north of 42° N. lat.; April 1 between 42°-40°30′ N. lat.; April 15 south of 40°30′ N. lat.

(c) Trip limits. (i) Before and after the regular season. The “per trip” limit for whiting before and after the regular season for the shore-based sector is announced in Table 3 (North) and Table 3 (South), as authorized at 50 CFR 660.323(a)(3) and (a)(4). This trip limit includes any whiting caught shoreward of 100 fathoms (183 m) in the Eureka area.

(ii) Inside the Eureka 100 fm (183 m) contour. No more than 10,000 lb (4,536 kg) of whiting may be taken and retained, possessed, or landed by a vessel that, at any time during ax fishing trip, fished in the fishery management area shoreward of the 100 fathom (183 m) contour (as shown on NOAA Charts 18580, 18600, and 18620) in the Eureka area.

(4) Black rockfish. The regulations at 50 CFR 660.323(a)(1) state: “The trip limit for black rockfish (Sebastes melanops) for commercial fishing vessels using hook-and-line gear between the U.S.-Canada border and Cape Alava (48°09′30″ N. lat.) and between Destruction Island (47°40′00″ N. lat.) and Leadbetter Point (46°38′10″ N. lat.), is 100 lb (45 kg) or 30 percent, by weight of all fish on board, whichever is greater, per vessel per fishing trip.” These “per trip” limits apply to limited entry and open access fisheries, in conjunction with the cumulative trip limits and other management measures listed in Tables 4 (North) and Table 5 (North) of NMFS Actions. The crossover provisions at paragraphs A.(12) do not apply to the black rockfish per-trip limits.

C. Trip Limits in the Open Access Fishery

(1) General. Open access gear is gear used to take and retain groundfish from a vessel that does not have a valid permit for the Pacific Coast groundfish fishery with an endorsement for the gear used to harvest the groundfish. This includes longline, trap, pot, hook-and-line (fixed or mobile), setnet and trammel net (south of 38° N. lat. only), and exempted trawl gear (trawls used to target non-groundfish species: pink shrimp or prawns, and, south of Pt. Arena, CA (38°57′30″ N. lat.), California halibut or sea cucumbers). Unless otherwise specified, a vessel operating in the open access fishery is subject to, and must not exceed any trip limit, frequency limit, and/or size limit for the open access fishery. Groundfish species taken in open access fisheries will be managed with cumulative trip limits (see paragraph A.(1)(d)), size limits (see paragraph A.(6)), seasons (see paragraph A.(7)), and closed areas. Cowcod retention is prohibited in all fisheries and groundfish vessels operating south of Point Conception must adhere to CCA restrictions (see paragraph A.(19)). Retention of yelloweye rockfish and canary rockfish and, south of 40°10′ N. lat., bocaccio is prohibited in all open access fisheries. The trip limits, size limits, seasons, and other management measures for open access groundfish gear, including exempted trawl gear, are listed in Table 5 (North) and Table 5 (South). A header in Table 5 (North) and Table 5 (South) approximates the Rockfish Conservation Area (i.e., closed area) for vessels participating in the open access fishery. [Note: Between a line drawn due south from Point Fermin (33°42′30″ N. lat.; 118°17′30″ W. long.) and a line drawn due west from the Newport South Jetty (33°35′37″ N. lat.; 117°52′50″ W. long.,) vessels fishing with hook-and-line and/or trap (or pot) gear may operate from shore to a boundary line approximating 50 fm (91 m) in the months of July and August.] For vessels participating in exempted trawl fisheries, the RCAs are the same as those for limited entry trawl gear. Exempted trawl gear RCAs are detailed in the exempted trawl gear sections at the bottom of Table 5 (North) and Table 5 (South). Retention of groundfish caught by exempted trawl gear is prohibited in the designated RCAs. The trip limit at 50 CFR 660.323(a)(i) for black rockfish caught with hook-and-line gear also applies. (The black rockfish limit is repeated at paragraph B.(4).)

BILLING CODE 3510-22-C

BILLING CODE 3510-22-C

(2) Groundfish taken with exempted trawl gear by vessels engaged in fishing for spot and ridgeback prawns, California halibut, or sea cucumbers. [Note: The States of California and Washington will likely prohibit trawling for spot prawn beginning in 2003, while the State of Oregon will likely begin phasing out trawling for spot prawn in 2003.] Trip limits and RCAs for groundfish retained in the spot and ridgeback prawn, California halibut, or sea cucumber fisheries are in Table 5 (North) and Table 5 (South).

(a) State law. The trip limits in Table 5(North) and Table 5(South) are not intended to supersede any more restrictive state law relating to the retention of groundfish taken in shrimp or prawn pots or traps.

(b) Participation in the California halibut fishery. A trawl vessel will be considered participating in the California halibut fishery if:

(i) It is not fishing under a valid limited entry permit issued under 50 CFR 660.333 for trawl gear;

(ii) All fishing on the trip takes place south of Pt. Arena, CA, and;

(iii) The landing includes California halibut of a size required by California Fish and Game Code section 8392(a), which states: “No California halibut may be taken, possessed or sold which measures less than 22 in (56 cm) in total length, unless it weighs 4 lbs (1.8144 kg) or more in the round, 3 and one-half lbs (1.587 kg) or more dressed with the head on, or 3 lbs (1.3608 kg) or more dressed with the head off. Total length means “the shortest distance between the tip of the jaw or snout, whichever extends farthest while the mouth is closed, and the tip of the longest lobe of the tail, measured while the halibut is lying flat in natural repose, without resort to any force other than the swinging or fanning of the tail.”

(c) Participation in the sea cucumber fishery. A trawl vessel will be considered to be participating in the sea cucumber fishery if:

(i) It is not fishing under a valid limited entry permit issued under 50 CFR 660.333 for trawl gear;

(ii) All fishing on the trip takes place south of Pt. Arena, CA, and;

(iii) The landing includes sea cucumbers taken in accordance with California Fish and Game Code, section 8405, which requires a permit issued by the State of California.

(3) Groundfish taken with exempted trawl gear by vessels engaged in fishing for pink shrimp. Trip limits for groundfish retained in the pink shrimp fishery are in Table 5 (North) and Table 5 (South). Notwithstanding section A.(11), a vessel that takes and retains pink shrimp and also takes and retains groundfish in either the limited entry or another open access fishery during the same applicable cumulative limit period that it takes and retains pink shrimp (which may be 1 month or 2 months, depending on the fishery and the time of year), may retain the larger of the two limits, but only if the limit(s) for each gear or fishery are not exceeded when operating in that fishery or with that gear. The limits are not additive; the vessel may not retain a separate trip limit for each fishery.

D. Recreational Fishery

Federal recreational groundfish regulations are not intended to supersede any more restrictive state recreational groundfish regulations relating to federally managed groundfish.

(1) Washington. For each person engaged in recreational fishing seaward of Washington, the groundfish bag limit is 15 groundfish, including rockfish and lingcod, and is open year-round (except for lingcod). The following sublimits and closed areas apply:

(a) Yelloweye Rockfish Conservation Area. The YRCA is a “C-shaped” area which is closed to recreational groundfish and halibut fishing. The coordinates for the YRCA are defined at A.(19).

(b) Rockfish. In areas seaward of Washington that are open to recreational groundfish fishing, there is a 10-rockfish per day bag limit, of which no more than 1 may be canary rockfish. Taking and retaining yelloweye rockfish is prohibited.

(c) Lingcod. Recreational fishing for lingcod is closed between January 1 and March 15, and between October 16 and December 31. In areas seaward of Washington that are open to recreational groundfish fishing and when the recreational season for lingcod is open (i.e., between March 16-October 15), there is a bag limit of 2 lingcod per day, which may be no smaller than 24 in (61 cm) total length.

(2) Oregon. The bag limits for each person engaged in recreational fishing seaward of Oregon are 2 lingcod per day, which may be no smaller than 24 in (61 cm) total length; and 10 marine fish per day, which excludes salmon, tuna, surfperch, sanddab, lingcod, and baitfish, but which includes rockfish and other groundfish. The minimum size limit for cabezon retained in the recreational fishery is 15 in (38 cm). Within the 10 marine fish bag limit, no more than 1 may be canary rockfish, no more than 1 may be yelloweye rockfish and when the all-depth recreational fisheries for Pacific halibut (Hippoglossus stenolopis) are open, the first Pacific halibut taken of 32 in (81 cm) or greater in length may be retained. During the all-depth recreational fisheries for Pacific halibut, vessels with halibut on board may not take, retain, possess or land yelloweye rockfish or canary rockfish.

(3) California. Seaward of California (north and south of 40°10′ N. lat.), California law provides that, in times and areas when the recreational fishery is open, there is a 20-fish bag limit for all species of finfish, within which no more than 10 fish of any one species may be taken or possessed by any one person. Retention of cowcod is prohibited in California′s recreational fishery all year in all areas.

(a) North of 40°10′ N. lat. North of 40°10′ N. lat. to the California/Oregon border, California′s recreational groundfish fishery will generally conform with Oregon′s recreational regulations (see D.(2)). For each person engaged in recreational fishing seaward of California north of 40°10′ N. lat., the following seasons, bag limits, and size limits apply:

(i) RCG Complex. The California rockfish, cabezon, greenling complex (RCG Complex), as defined in state regulation (Section 1.91, Title 14, California Code of Regulations), includes all rockfish, kelp greenling, rock greenling, and cabezon. This category does not include California scorpionfish, also known as “sculpin.”

(A) Seasons. North of 40°10′ N. lat., recreational fishing for the RCG Complex is open from January 1 through December 31.

(B) Bag limits, boat limits, hook limits. North of 40°10′ N. lat., the bag limit is 10 rockfish per day, of which no more than 2 may be bocaccio, 1 may be canary rockfish, and no more than 1 per day up to a maximum of two per boat may be yelloweye rockfish. The following daily bag limits also apply: no more than 10 cabezon per day and no more than 10 greenlings (kelp and/or rock greenlings) per day. Multi-day limits are authorized by a valid permit issued by California and must not exceed the daily limit multiplied by the number of days in the fishing trip.

(C) Size limits. The following size limits apply: cabezon may be no smaller than 15 in (38 cm) total length and kelp and rock greenling may be no smaller than 12 in (30 cm) total length.

(D) Dressing/filleting. Cabezon, kelp greenling, and rock greenling taken in the recreational fishery may not be filleted at sea. Rockfish skin may not be removed when filleting or otherwise dressing rockfish taken in the recreational fishery. Brown-skinned rockfish fillets may be no smaller than 6.5 in (16.6 cm). “Brown-skinned” rockfish include the following species: brown, calico, copper, gopher, kelp, olive, speckled, squarespot, and yellowtail.

(ii) Lingcod.

(A) Seasons. North of 40°10′ N. lat., recreational fishing for lingcod is open from January 1 through December 31.

(B) Bag limits, boat limits, hook limits. North of 40°10′ N. lat., the bag limit is 2 lingcod per day. Multi-day limits are authorized by a valid permit issued by California and must not exceed the daily limit multiplied by the number of days in the fishing trip.

(C) Size limits. Lingcod may be no smaller than 24 in (61 cm) total length.

(D) Dressing/fileting. Lingcod filets may be no smaller than 16 in. (41 cm) in length .

(b) South of 40°10′ N. lat. For each person engaged in recreational fishing seaward of California south of 40°10′ N. lat., the following seasons, bag limits, size limits and closed areas apply:

(i) Closed Areas.

(A) Cowcod Conservation Areas. Recreational fishing for groundfish is prohibited within the CCAs, for coordinates described in Federal regulations at 50 CFR 660.304(c), except that fishing for sanddabs is permitted subject to the provisions in paragraph D.(3)(iv) and that fishing for species managed under this section (not including cowcod, bocaccio, canary, and yelloweye rockfishes) is permitted in waters shoreward of the 20- fm (37-m) depth contour within the CCAs from July 1 through December 31, 2003, subject to the bag limits in this section.

(B) South of 40°10′ N. lat., recreational fishing for all groundfish, including lingcod, is prohibited seaward of the 20-fm (37-m) depth contour, except that recreational fishing for sanddabs is permitted seaward of the 20-fm (37-m) depth contour subject to the provisions in paragraph D.(3)(iv).

(ii) RCG Complex. The California rockfish, cabezon, greenling complex (RCG Complex), as defined in state regulations (Section 1.91, Title 14, California Code of Regulations), includes all rockfish, kelp greenling, rock greenling, and cabezon. This category does not include California scorpionfish, also known as “sculpin.”

(A) Seasons. South of 40°10′ N. lat., recreational fishing for the RCG Complex is open from July 1 through December 31 (i.e., it′s closed from January 1 through June 30). When recreational fishing for the RCG Complex is open, it is permitted only inside the 20-fm (37-m) depth contour, subject to the bag limits in paragraph (B) of this section.

(B) Bag limits, boat limits, hook limits. South of 40°10′ N. lat., in times and areas when the recreational season for the RCG Complex is open, there is a limit of 2-hooks and one line when fishing for rockfish, and the bag limit is 10 RCG Complex fish per day, of which up to 10 may be rockfish, no more than 2 of which may be shallow nearshore rockfish. [Note: The shallow nearshore rockfish group off California are composed of kelp, grass, black-and-yellow, China, and gopher rockfishes.] Also within the 10 RCG Complex fish per day limit, no more than 2 groundfish per day may be greenlings (kelp and/or rock greenlings) and no more than 3 groundfish per day may be cabezon. Lingcod, California scorpionfish, and sanddabs taken in recreational fisheries off California do not count toward the 10 RCG Complex fish per day bag limit. Multi-day limits are authorized by a valid permit issued by California and must not exceed the daily limit multiplied by the number of days in the fishing trip.

(C) Size limits. The following size limits apply: cabezon may be no smaller than 15 in (38 cm) and kelp and rock greenling may be no smaller than 12 in (30 cm).

(D) Dressing/filleting. Cabezon, kelp greenling, and rock greenling taken in the recreational fishery may not be filleted at sea. Rockfish skin may not be removed when filleting or otherwise dressing rockfish taken in the recreational fishery. Brown-skinned rockfish filets may be no smaller than 6.5 in (16.6 cm). “Brown-skinned” rockfish include the following species: brown, calico, copper, gopher, kelp, olive, speckled, squarespot, and yellowtail.

(iii) California scorpionfish. California scorpionfish only occur south of 40°10′ N. lat. (A) Seasons. South of 40°10′ N. lat., recreational fishing for California scorpionfish is closed from March 1 through June 30 (i.e., the California scorpionfish season is open during January-February and during July-December). When recreational fishing for California scorpionfish is open, it is permitted only inside the 20-fm (37-m) depth contour (except at Huntington Flats between a line drawn due south from Point Fermin (33 42′30” N. lat.; 118 17′30” W. long.) and a line drawn due west from the Newport South Jetty (33 35′37” N. lat.; 117 52′50” W. long.,) recreational fishing for California scorpionfish may occur from shore to a boundary line approximating 50-fm (91-m) during July-August), subject to the bag limits in paragraph (B) of this section.

(B) Bag limits, boat limits, hook limits. South of 40°10′ N. lat., in times and areas where the recreational season for California scorpionfish is open, and the bag limit is 5 California scorpionfish per day. California scorpionfish do not count against the 10 RCG Complex fish per day limit. Multi-day limits are authorized by a valid permit issued by California and must not exceed the daily limit multiplied by the number of days in the fishing trip.

(C) Size limits. California scorpionfish may be no smaller than 10 in (25 cm) total length.

(D) Dressing/filleting. California scorpionfish fillets may be no smaller than 5 in (12.8 cm).

(iv) Lingcod. (A) Seasons. South of 40°10′ N. lat., recreational fishing for lingcod is open July 1 through December 31. When recreational fishing for lingcod is open in the south, it is permitted only inside the 20 fm (37 m) depth contour, subject to the bag limits in paragraph (B) of this section.

(B) Bag limits, boat limits, hook limits. South of 40°10′ N. lat., in times and areas when the recreational season for lingcod is open, there is a limit of 2-hooks and one line when fishing for lingcod, and the bag limit is 2 lingcod per day. Lingcod do not count against the 10 RCG Complex fish per day limit. Multi-day limits are authorized by a valid permit issued by California and must not exceed the daily limit multiplied by the number of days in the fishing trip.

(C) Size limits. Lingcod may be no smaller than 24 in (61 cm) total length.

(D) Dressing/filleting. Lingcod fillets may be no smaller than 16 in. (41 cm) in length.

(iv) Sanddabs. South of 40°10′ N. lat., recreational fishing for sanddabs is permitted both shoreward and seaward of the 20-fm (37-m) depth contour (i.e., recreational fishing for sanddabs is permitted in all areas south of 40°10′ N. lat.). Recreational fishing for sanddabs is permitted seaward of the 20- fm (37-m) depth contour subject to a limit of up to 5-hooks “Number 2” or smaller, which measure 11 mm (0.44 inches) point to shank, and up to 1 lb (45 kg) of weight per line. There is no bag limit, season, or size limit for sanddabs, however, it is prohibited to fillet sanddabs at sea.

V. Washington Coastal Tribal Fisheries

The legal basis for and background information on groundfish allocations harvest by the four Washington Coastal Tribes (Makah, Quileute, Hoh, and Quinault) with treaty rights to groundfish is described in the proposed rule to implement the 2003 groundfish specifications and management measures in the Proposed Rules section of the January 7, 2003 issue of the Federal Register.

The Assistant Administrator (AA) announces the following tribal allocations for 2003, including those that are the same as in 2002. Trip limits for certain species were recommended by the tribes and the Council and are specified here with the tribal allocations.

A. Sablefish

The tribal allocation is 631 mt, 10 percent of the total catch OY, less 3 percent estimated discard mortality.

B. Rockfish

(1) For the commercial harvest of black rockfish off Washington State, a harvest guideline of: 20,000 lb (9,072 kg) north of Cape Alava (48°09′30” N. lat.) and 10,000 lb (4,536 kg) between Destruction Island (47°40′00” N. lat.) and Leadbetter Point (46°38′10” N. lat.).

(2) Thornyheads are subject to a 300-lb (136-kg) trip limit.

(3) Canary rockfish are subject to a 300-lb (136-kg) trip limit.

(4) Yelloweye rockfish are subject to a 100-lb (45-kg) trip limit.

(5) Yellowtail rockfish taken in the tribal mid-water trawl fisheries are subject to a cumulative limit of 30,000 lb (13,608 kg) per two-month period. Landings of widow rockfish must not exceed 10 percent of the weight of yellowtail rockfish landed in any two-month period. These limits may be adjusted by an individual tribe inseason to minimize the incidental catch of canary rockfish and widow rockfish.

(6) Other rockfish, including minor nearshore, minor shelf, and minor slope rockfish groups are subject to a 300-lb (136-kg) trip limit per species or species group, or to the non-tribal limited entry trip limit for those species if those limits are less restrictive than 300-lb (136-kg) per trip.

(7) Rockfish taken during open competition tribal commercial fisheries for Pacific halibut will not be subject to trip limits.

C. Lingcod

Lingcod are subject to a 300-lb (136-kg) daily trip limit and a 900-lb (408-kg) weekly limit.

D. Pacific whiting

The tribal allocation is 25,000 mt.

Classification

These final management measures for January 1 through February 28, 2003 are issued under the authority of, and are in accordance with, the Magnuson-Stevens Act and 50 CFR parts 600 and 660 subpart G (the regulations implementing the FMP).

The AA finds good cause to waive the requirement to provide prior notice and opportunity for public comment on this action pursuant to 5 U.S.C. 553(b)(B), because providing prior notice and comment would be impracticable and contrary to the public interest.

The January-February management measures are intended to protect overfished and other depressed stocks while also allowing as much harvest of healthy stocks as possible. As explained above, delay in implementation of these regulatory measures could cause harm to some stocks and would require unnecessarily restrictive measures later in the year to make up for the late implementation. Because the 2002 measures are not strict enough, leaving these measures in place could cause harm to some stocks. Much of the data necessary for these specifications and management measures came from the 2002 fishing year and new stock assessments were not available until June. Because of the timing of the receipt, development, review, and analysis of the fishery information necessary for setting the initial specifications and management measures, it is impracticable and contrary to the public interest to publish these measures in the Federal Register and to take public comment on the measures prior to January 1, 2002. It would be impracticable because, as explained above, providing prior notice would delay the effective date of these measures and the January-February 2002 measures would remain in place. Because the 2002 measures are not conservative enough, they do not meet the Council′s rebuilding goals for 2003. Leaving the 2002 measures in place for 2003 could cause harm to some stocks.

For the reasons above, the AA also finds good cause under 5 U.S.C. 553(d) to waive the requirement to delay for 30 days the effective date of the rule.

Because there is no requirement to provide for prior notice and opportunity for public comment on this rule the analytical requirements of the Regulatory Flexibility Act do not apply. However, as described above, the January-February 2003 management measures are based on the overall analysis underlying the 2003 specifications and March-December 2003 management measures which are proposed in the Proposed Rules section of this issue of the Federal Register. The Council′s Initial Regulatory Flexibility analysis prepared for the 2003 specifications and management measures considers the effects of the January and February management measures on the fisheries.

This action has been determined to be not significant for purposes of Executive Order 12866.

Pursuant to Executive Order 13175, this emergency rule was developed after meaningful consultation and collaboration with tribal officials from the area covered by the FMP. Under the Magnuson-Stevens Act at 16 U.S.C. 1852(b)(5), one of the voting members of the Council must be a representative of an Indian tribe with federally recognized fishing rights from the area of the Council′s jurisdiction. In addition, regulations implementing the FMP establish a procedure by which the tribes with treaty fishing rights in the area covered by the FMP request new allocation or regulations specific to the tribes, in writing, before the first of the two autumn groundfish meetings of the Council. The regulation at 50 CFR 660.324(d) further states “the Secretary will develop tribal allocations and regulations under this paragraph in consultation with the affected tribe(s) and, insofar as possible, with tribal consensus.” The tribal management measures in this final rule have been developed following these procedures. The tribal representative on the Council made a motion to adopt the tribal management measures, which was passed by the Council, and those management measures, which were developed and proposed by the tribes, are included in this emergency rule.

NMFS issued Biological Opinions (BOs) under the Endangered Species Act on August 10, 1990, November 26, 1991, August 28, 1992, September 27, 1993, May 14, 1996, and December 15, 1999, pertaining to the effects of the groundfish fishery on chinook salmon (Puget Sound, Snake River spring/summer, Snake River fall, upper Columbia River spring, lower Columbia River, upper Willamette River, Sacramento River winter, Central Valley, California coastal), coho salmon (Central California coastal, southern Oregon/northern California coastal, Oregon coastal), chum salmon (Hood Canal, Columbia River), sockeye salmon (Snake River, Ozette Lake), and steelhead (upper, middle and lower Columbia River, Snake River Basin, upper Willamette River, central California coast, California Central Valley, south-central California, northern California, and southern California).

During the 2000 Pacific whiting season, the whiting fisheries exceeded the chinook bycatch amount specified in the Pacific whiting fishery′s Biological Opinion′s (whiting BO) (December 19, 1999) incidental catch statement estimate of 11,000 fish, by approximately 500 fish. In the 2001 whiting season, however, the whiting fishery's chinook bycatch was about 7,000 fish, which approximates the long-term average. After reviewing data from, and management of, the 2000 and 2001 whiting fisheries (including industry bycatch minimization measures), the status of the affected listed chinook, environmental baseline information, and the incidental catch statement from the 1999 whiting BO, NMFS determined in a letter dated April 25, 2002, that a re-initiation of the 1999 whiting BO was not required. NMFS has concluded that implementation of the FMP for the Pacific Coast groundfish fishery is not expected to jeopardize the continued existence of any endangered or threatened species under the jurisdiction of NMFS, or result in the destruction or adverse modification of critical habitat. This action is within the scope of these consultations.

Because prior notice and opportunity for public comment are not required for this emergency rule by 5 U.S.C. 553, or any other law, the analytical requirements of the Regulatory Flexibility Act, 5 U.S.C. 601 et seq., are inapplicable. However, as described above, the January-February 2003 management measures are based on the overall analysis underlying the 2003 specifications and March-December 2003 management measures which are proposed in the Proposed Rules section of this issue of the Federal Register. The Council's Initial Regulatory Flexibility analysis prepared for the 2003 specifications and management measures considers the effects of the January and February management measures on the fisheries.

List of Subjects in 50 CFR Part 660

Administrative practice and procedure, American Samoa, Fisheries, Fishing, Guam, Hawaiian Natives, Indians, Northern Mariana Islands, Reporting and recordkeeping requirements.

Dated: December 20, 2002.
Rebecca Lent,
Deputy Assistant Administrator for Regulatory Programs, National Marine Fisheries Service.

For the reasons set out in the preamble, 50 CFR part 660 is amended as follows:

PART 660—FISHERIES OFF WEST COAST STATES AND IN THE WESTERN PACIFIC

l. The authority citation for part 660 continues to read as follows:

Authority: 16 U.S.C. 1801 et seq.

2. In § 660.302, the definition for “Open access fishery” is suspended and a definition for “Open access fishery (for the period January 1, 2003 to February 28, 2003)” is temporarily added to read as follows:

§ 660.302 Definitions.

* * * * *

Open access fishery (for the period January 1, 2003 to February 28, 2003) means the fishery composed of vessels using open access gear fished pursuant to the harvest guidelines, quotas, and other management measures governing the open access fishery. Any commercial fishing vessels that does not have a limited entry permit and which lands groundfish in any commercial fishery is a participant in the open access fishery.

* * * * *

3. In § 660.304, paragraphs (a) through (f) are suspended and paragraphs (g) through (j) are temparily added to read as follows:

§ 660.304 Management areas.

* * * * *

(g) Management areas—(1) Vancouver. (i) The northeastern boundary is that part of a line connecting the light on Tatoosh Island, WA, with the light on Bonilla Point on Vancouver Island, British Columbia (at 48 deg.35′75″ N. lat., 124 deg.43′00″ W. long.) south of the International Boundary between the U.S. and Canada (at 48 deg.29′37.19″ N. lat., 124 deg.43′33.19″ W. long.), and north of the point where that line intersects with the boundary of the U.S. territorial sea.

(ii) The northern and northwestern boundary is a line connecting the following coordinates in the order listed, which is the provisional international boundary of the EEZ as shown on NOAA/NOS Charts #18480 and #18007:

Point | N. lat. | W. long.
1 | 48 deg.29′37.19″ | 124 deg.43′33.19″
2 | 48 deg.30′11″ | 124 deg.47′13″
3 | 48 deg.30′22″ | 124 deg.50′21″
4 | 48 deg.30′14″ | 124 deg.54′52″
5 | 48 deg.29′57″ | 124 deg.59′14″
6 | 48 deg.29′44″ | 125 deg.00′06″
7 | 48 deg.28′09″ | 125 deg.05′47″
8 | 48 deg.27′10″ | 125 deg.08′25″
9 | 48 deg.26′47″ | 125 deg.09′12″
10 | 48 deg.20′16″ | 125 deg.22′48″
11 | 48 deg.18′22″ | 125 deg.29′58″
12 | 48 deg.11′05″ | 125 deg.53′48″
13 | 47 deg.49′15″ | 126 deg.40′57″
14 | 47 deg.36′47″ | 127 deg.41′23″
15 | 47 deg.22′00″ | 127 deg.41′23″
16 | 46 deg.42′05″ | 128 deg.51′56″
17 | 46 deg.31′47″ | 129 deg.07′39″

(iii) The southern limit is 47 deg.30′ N. lat.

(2) Columbia. (i) The northern limit is 47 deg.30′ N. lat.

(ii) The southern limit is 43 deg.00′ N. lat.

(3) Eureka. (i) The northern limit is 43 deg.00′ N. lat.

(ii) The southern limit is 40 deg.30′ N. lat.

(4) Monterey. (i) The northern limit is 40 deg.30′ N. lat.

(ii) The southern limit is 36 deg.00′ N. lat.

(5) Conception. (i) The northern limit is 36 deg.00′ N. lat.

(ii) The southern limit is the U.S.-Mexico International Boundary, which is a line connecting the following coordinates in the order listed:

Point | N. lat. | W. long.
1 | 32 deg.35′22″ | 117 deg.27′49″
2 | 32 deg.37′37″ | 117 deg.49′31″
3 | 31 deg.07′58″ | 118 deg.36′18″
4 | 30 deg.32′31″ | 121 deg.51′58″

(h) Commonly used geographic coordinates—

(1) Cape Falcon, OR--45°46′ N. lat.

(2) Cape Lookout, OR--45°20′15″ N. lat.

(3) Cape Blanco, OR--42°50′ N. lat.

(4) Cape Mendocino, CA--40°30′ N. lat.

(5) North/South management line--40°10′ N. lat.

(6) Point Arena, CA--38°57′30″ N. lat.

(7) Point Conception, CA--34°27' N. lat.

(i) Cowcod Conservation Areas (CCAs). (1) The Western CCA is an area south of Point Conception that is bound by straight lines connecting all of the following points in the order listed:

33°50′ N. lat., 119°30′ W. long.;

33°50′ N. lat., 118°50′ W. long.;

32°20′ N. lat., 118°50′ W. long.;

32°20′ N. lat., 119°37′ W. long.;

33°00′ N. lat., 119°37′ W. long.;

33°00′ N. lat., 119°53′ W. long.;

33°33′ N. lat., 119°53′ W. long.;

33°33′ N. lat., 119°30′ W. long.;

and connecting back to 33°50′ N. lat., 119°30′ W. long.

(2) The Eastern CCA is a smaller area west of San Diego that is bound by straight lines connecting all of the following points in the order listed:

32°42′ N. lat., 118°02′ W. long.;

32°42′ N. lat., 117°50′ W. long.;

32°36′42″ N. lat., 117°50′ W. long.;

32°30′ N. lat., 117°53′30″ W. long.;

32°30′ N. lat., 118°02′ W. long.;

and connecting back to 32°42′ N. lat., 118°02′ W. long.

(j) International boundaries. (1) Any person fishing subject to this subpart is bound by the international boundaries described in this section, notwithstanding any dispute or negotiation between the United States and any neighboring country regarding their respective jurisdictions, until such time as new boundaries are established or recognized by the United States.

(2) The inner boundary of the fishery management area is a line coterminous with the seaward boundaries of the States of Washington, Oregon, and California (the “3-mile limit”).

(3) The outer boundary of the fishery management area is a line drawn in such a manner that each point on it is 200 nm from the baseline from which the territorial sea is measured, or is a provisional or permanent international boundary between the United States and Canada or Mexico.

* * * * *

4. In § 660.322, paragraph (b)(5) is suspended and paragraphs (b)(6) and (b)(7) are temporarily added to read as follows:

§ 660.322 Gear restrictions.

* * * * *

(b) * * *

(6) Large and small footrope trawl gear. Large footrope trawl gear is bottom trawl gear, as specified at § 660.302, with a footrope diameter larger than 8 inches (20 cm) (including rollers, bobbins or other material encircling or tied along the length of the footrope). Small footrope trawl gear is bottom trawl gear, as specified at § 660.302 and 660.322(b), with a footrope diameter 8 inches (20 cm) or smaller (including rollers, bobbins or other material encircling or tied along the length of the footrope). Chafing gear may be used only on the last 50 meshes of a small footrope trawl, measured from the terminal (closed) end of the codend. Other lines or ropes that run parallel to the footrope may not be augmented or modified to violate footrope size restrictions. For enforcement purposes, the footrope will be measured in a straight line from the outside edge to the opposite outside edge at the widest part on any individual part, including any individual disk, roller, bobbin, or any other device.

(7) Pelagic or “midwater” trawls. Pelagic trawl nets must have unprotected footropes at the trawl mouth, and must not have rollers, bobbins, tires, wheels, rubber discs, or any similar device anywhere in the net. The footrope of pelagic gear may not be enlarged by encircling it with chains or by any other means. Ropes or lines running parallel to the footrope of pelagic trawl gear must be bare and may not be suspended with chains or any other materials. Sweeplines, including the bottom leg of the bridle, must be bare. For at least 20 ft (6.15 m) immediately behind the footrope or headrope, bare ropes or mesh of 16-inch (40.6-cm) minimum mesh size must completely encircle the net. A band of mesh (a “skirt”) may encircle the net under transfer cables, lifting or splitting straps (chokers), but must be: Over riblines and restraining straps; the same mesh size and coincide knot-to-knot with the net to which it is attached; and no wider than 16 meshes.

* * * * *

[FR Doc. 02-32755 Filed 12-31-02; 1:23 pm]

BILLING CODE 3510-22-S